DEPARTMENT OF DEFENSE

Office of the Secretary

Science and Technology Reinvention Laboratory Personnel Management Demonstration Project, Department of the Army, Army Research, Development and Engineering Command, Tank Automotive Research, Development and Engineering Center (TARDEC)

AGENCY: Office of the Deputy Under Secretary of Defense (Civilian Personnel Policy) (DUSD (CPP)), DoD.

ACTION: Notice.

SUMMARY: Section 342(b) of the National Defense Authorization Act (NDAA) for Fiscal Year (FY) 1995, Public Law (Pub. L.) 103-337, (10 U.S.C. 2358 note), as amended by section 1109 of NDAA for FY 2000, Public Law 106-65, and section 1114 of NDAA for FY 2001, Public Law 106-398, authorizes the Secretary of Defense to conduct personnel demonstration projects at DoD laboratories designated as Science and Technology Reinvention Laboratories (STRLs). The above-cited legislation authorizes DoD to conduct demonstration projects to determine whether a specified change in personnel management policies or procedures would result in improved Federal personnel management. Section 1105 of the NDAA for FY 2010, Public Law 111-84, 123 Stat. 2486, October 28, 2009, designates additional DoD laboratories as STRLs for the purpose of designing and implementing personnel management demonstration projects for conversion of employees from the personnel system which applied on October 28, 2009. The TARDEC is listed in subsection 1105(a) of NDAA for FY 2010 as one of the newly designated STRLs.

DATES: Implementation of this demonstration project will begin no earlier than March 9, 2010.

FOR FURTHER INFORMATION CONTACT: TARDEC: U.S. Army Tank Automotive Research, Development and Engineering Center (TARDEC), 6501 East 11 Mile Road, Warren, MI 48397-5000, ATTN: RDTA-COS/MS 204 Mr. Gregory L. Berry, Warren, MI 48397-5000.

DoD: Ms. Betty Duffield, CPMS-PSSC, Suite B-200, 1400 Key Boulevard, Arlington, VA 22209-5144.

SUPPLEMENTARY INFORMATION:

1. Background

Since 1966, many studies of DoD laboratories have been conducted on laboratory quality and personnel. Almost all of these studies have recommended improvements in civilian personnel policy, organization, and management. Pursuant to the authority provided in section 342(b) of Public Law 103-337, as amended, a number of DoD STRL personnel demonstration projects were approved. These projects are “generally similar in nature” to the Department of Navy's “China Lake” Personnel Demonstration Project. The terminology, “generally similar in nature,” does not imply an emulation of various features, but rather implies a similar opportunity and authority to develop personnel flexibilities that significantly increase the decision authority of laboratory commanders and/or directors.

This demonstration project involves: (1) Two appointment authorities (permanent and modified term); (2) extended probationary period for newly hired engineering and science employees; (3) pay banding; (4) streamlined delegated examining; (5) modified reduction-in-force (RIF) procedures; (6) simplified job classification; (7) the Contribution-based Compensation and Appraisal System (CCAS); (8) academic degree and certificate training; (9) sabbaticals; (10) a Voluntary Emeritus Corps; (11) direct hire authority for candidates with advanced degrees for scientific and engineering positions; and (12) Distinguished Scholastic Achievement Appointment Authority.

2. Overview

The NDAA for FY 2010 not only designated new STRLs but also repealed the National Security Personnel System (NSPS) mandating conversion of NSPS covered employees to their former personnel system or one that would have applied absent the NSPS. A number of TARDEC employees are covered by the NSPS and must be converted to another personnel system. Section 1105 of NDAA for FY 2010 stipulates the STRLs designated in subsection (a) of section 1105 may not implement any personnel system, other than a personnel system under an appropriate demonstration project as defined in section 342(b) of Public Law 103-337, as amended, without prior congressional authorization. In addition, any conversion under the provisions of section 1105 shall not adversely affect any employee with respect to pay or any other term or condition of employment; shall be consistent with section 4703(f) of title 5 United States Code (U.S.C.); and shall be completed within 18 months after enactment of NDAA for FY 2010. Therefore, since TARDEC is both designated an STRL by section 1105 of NDAA for FY 2010 and has NSPS covered employees, it must convert, at a minimum, its NSPS covered employees to a personnel management demonstration project before the end of April 2011.

On September 9, 2010, DoD published the proposed STRL Demonstration Project for TARDEC in 75 FR 55109-55157. During the public comment period ending October 12, 2010, DoD received comments from five individuals. All comments were carefully considered. The following summary addresses all the comments received, provides responses, and note resultant changes to the original project plan in the first Federal Register notice. Most commenters addressed several topics, which were counted separately. A total of 39 comments were received from the five commenters. The following summary addresses all comments received, provides responses, and notes resultant changes to the original project plan in the first Federal Register notice.

A. General Overview of Comments

None of the comments received gave an overall opinion supporting or not supporting the demonstration project. The comments received are categorized as desiring further clarification or offering constructive recommendations on improving the details of the demonstration project. Generally, the comments were very helpful in pointing out areas that needed refinement or correction and were directed to a specific topic. In order to maintain the greatest flexibilities additional detailed instructions will be contained in the TAREC Demonstration Project Internal Operating Instructions.

B. Personnel Management Board

One (1) comment was received under this section.

Comment: What does “ensure in-house budget discipline” mean? Is this the “Control Gates” or “Swim Lanes” as TARDEC currently calls it under acquisition demonstration where maximum pay in a given band is being limited to less than the band allows and what the position is advertised to encompass?

Response: The TARDEC Personnel Management Board has the responsibility to ensure that expenses associated with the demonstration project are maintained within proper funding levels. The use of “control gates” for the demonstration project, if used, will be contained in the Demonstration Project Operating Instructions. No changes were made as a result of this comment.

C. Pay Banding

One (1) comment was received under this section.

Comment: Within the Engineering and Science DB pay band at the II level, it is identified as a developmental track covering GS-5, step 1, through GS-11, step 10. TARDEC has Chemists whose full performance grade (GS-9/11) falls in this band. As written, this is misleading as it implies that these people are in a developmental position when in fact they are not.

Response: Concur with comment. The DB Pay Band Level II covers positions that may be either developmental in nature or at the full performance level. Federal Register notice Section III.A.1.b is modified to read: “Band II is developmental/full performance track covering GS-5, step 1, through GS-11, step 10.

D. Classification

One (1) comment was received under this section.

Comment: The Federal Register notice does not talk about how supervisory and/or team leader positions will be determined from the standpoint of meeting some type of established criteria. Recommend a review of the language with the possibility of adding that Office of Personnel Management (OPM) Functional Classification Standards could be used to form applicability determinations for positions.

Response: Concur with the comment. The OPM Functional Classification Standards such as the General Schedule Team Leader Guide, General Schedule Supervisory Guide, Research Grade Evaluation Guide, Equipment Development Grade Evaluation Guide, etc., will be used as foundation guides in making proper classification applicability determinations. Federal Register notice Section III.B.2 is modified to read: “Current OPM functional classification standards may be used to aid in position applicability and the framework for pay band level determinations.”

E. Contribution-Based Compensation and Appraisal System (CCAS)

A total of eleven (11) comments were received under this category relating to four subtopics as follows:

1. Pay Pools

Comments: Two similar comments addressed the guidelines for sizing of pay pools and that in the past TARDEC had exceeded the size guidelines for pay pools under the DoD Civilian Acquisition Workforce Personnel Demonstration Project. Does TARDEC intend to continue having a single pay pool with upwards of 700 employees in it?

Response: It is projected that the makeup of demonstration project pay pools will typically be constructed within normal pay pool size guidelines. However, to provide additional flexibility, some specific language in Section III.C.3. Pay Pools was deleted with the actual construct of pay pools to be further defined in the Demonstration Project Internal Operating Instructions.

Comment: One comment addressed whether it will be a requirement that supervisory personnel be in a separate pay pool from non-supervisory personnel.

Response: To maintain flexibility the construct of pay pools will be further defined in the Demonstration Project Internal Operating Instructions. Federal Register notice Section III.C.3 was modified to delete the sentence: “Supervisory personnel typically will be placed in a pay pool separate from subordinate non-supervisory personnel.”

Comment: One comment addressed the amount of the performance payouts; whether they are based on an established pay calculation such as the DoD Civilian Acquisition Workforce Personnel Demonstration Project's CAS2NET system; and if the formulas will be made available.

Response: The final decision for the amounts given for performance pay outs rests with the TARDEC Director with a recommendation by a Pay Pool Manager. While an automated tool may perform generalized calculations, the amounts to be given for continuing pay increases and bonus awards are the Pay Pool Manager's determination. No changes in the Federal Register notice have been made in response to this comment.

Comment: One comment addressed the funding levels and the fact that TARDEC has a number of employees that are co-located with other offices such as Program Executive Offices which complicates the pay pool funding situation since these offices may fund at different levels.

Response: The decisions on funding levels for the Demonstration Project are at the sole discretion of the TARDEC Director with recommendations provided by the TARDEC Personnel Management Board. Consultation with other organizations is desirable, but will not be required by the Demonstration Project. No changes in the Federal Register notice have been made in response to this comment.

2. Annual Rating Cycle and Rating Process

Comment: One comment addressed that all Overall Contribution Scores (OCS) will be rounded up to the nearest whole number. For clarification purposes, an OCS of 70.1 would be rounded up to 71. Is that correct?

Response: This comment has been carefully considered; and it is agreed that it needs clarification. Federal Register notice Section III.C.4 is modified to read: “All OCS's will be rounded to the nearest whole number.”

Comment: One comment addressed when the expected OCS for an individual would be established and set for the appraisal year in order for the employee to perform throughout the year to a level associated with the expected OCS.

Response: The expected OCS is directly tied to an employee's base pay. Therefore, it is the base pay the employee has at the end of the rating cycle that will determine the final expected OCS. This does not preclude the employee and the rating official from discussing performance at the beginning and mid-point of the rating cycle. The demonstration project encourages employees and supervisors to actively participate in on-going performance discussions. The demonstration project has established six performance factors with each factor having multiple levels of increasing contribution corresponding to the pay band levels; this will allow meaningful discussions without the final expected OCS being determined until the end of the rating cycle. No changes in the Federal Register notice have been made in response to this comment.

Comment: One comment addressed Table 4 with respect to the OCS point ranges for the Business and Technical (DE) Occupational Family. It was suggested the table may need further review and refinement to allow for the possibility of higher scores.

Response: This comment was carefully considered. It was agreed that Table 4 needs to be modified to revise the point ranges of the Business and Technical (DE) occupational family. This will allow for and maintain proper growth potential within this occupational family. Federal Register notice Table 4 was modified accordingly.

3. Base Pay Increases and Bonuses

Comment: One comment pointed out that base pay increases may be limited and that base pay is capped when an employee reaches the maximum rate of base pay in an assigned pay band. The commenter asked if these are one in the same or if they refer to “control gates.” Compensation should not be limited to something lower than what the pay band allows, otherwise a return to General Schedule may be appropriate.

Response: The demonstration project gives final authority to the TARDEC Director in the distribution of the amount of individual pay increases and bonuses as recommended by a Pay Pool Manager. No changes in the Federal Register notice have been made in response to this comment.

4. Awards

Comment: One commenter requested clarification as to whether the $25,000 ceiling applies only to group awards or if it may also apply to individual awards.

Response: The delegation of awards authority is an internal Army decision and will be considered as such.

Comment: One commenter recommended expanding the TARDEC Director's awards authority to provide final approval authority for two Army civilian honorary achievement medals.

Response: The delegation of awards authority is an internal Army decision and will be considered as such.

F. Hiring Authority

A total of nine comments were received under this category relating to five subtopics as follows:

1. Delegated Examining

Comment: In regard to rating and ranking being required only when the number of qualified candidates exceed 15 or there is a mix of preference and non-preference applicants, one commenter wanted to know who determines the number of qualified candidates. The question was posed as to whether this was left to the selecting official as the commenter wanted to make sure the integrity of the qualified determinations were maintained under the demonstration project.

Response: The servicing Civilian Personnel Advisory Center will determine the number of qualified candidates based on the number of applications received and the number of applicants determined to fully meet the prescribed OPM qualification standards. This is a function of the servicing Civilian Personnel Advisory Center and not the selecting official. No changes in the Federal Register notice have been made in response to this comment.

Comment: One comment addressed that there was no mention of positions covered by the Administrative Careers With America (ACWA) at the proposed Business and Technical Lab Demo Pay Band DE-II, GS-5 through GS-11 level equivalent. Since the demonstration project will recruit at the lowest GS equivalent of the band, so the DE-II positions would be recruited at the GS-5 equivalent, and many, if not all, positions in that occupational family would be covered by ACWA, therefore they recommended that we modified our language to include the use of the OPM ACWA Assessment Tool for these positions.

Response: This comment has been carefully reviewed resulting in the addition of the following clarifying information to the Federal Register notice Section III.D.2: “The Demonstration Project will utilize the current OPM Administrative Careers With America (ACWA) or successor procedures for occupational series which have been designated as having a testing requirement. This will allow for the recruitment of positions covered by the Business and Technical Occupational Family at the DE-II pay band level.”

Comment: One comment recommended identifying an upper and lower level within the DE-II pay band for recruitment purposes only in order to qualify candidates at the higher level of the pay band say at the GS-9 level. They recognized that many positions require work at the full performance level (GS-9/11 equivalent), which cannot be met with the standard as written. Plus they said many positions within the laboratory are covered under the Luevano Decree, and must meet the ACWA requirements if recruited using GS-5 Level standards.

Response: This comment has been carefully considered. While adding an upper and lower qualifications determination within a pay band may appear to be desirable, we have retained our DE-II pay band structure and the minimum qualification requirements. Selective placement factors may still be used to distinguish higher level experience, skills, competencies. No changes in the Federal Register notice have been made in response to this comment.

Comment: One comment recommended modification to say that if delegated examining authority has been granted for the GS equivalent position, that delegated examining authority also applies to positions covered under this demonstration project. Absent this language, additional delegated authority must be requested from OPM to fill positions covered by this project.

Response: This comment has been carefully considered. It was concluded that the current language in Section D. II covers projected authorities. No changes in the Federal Register notice have been made in response to this comment.

2. Distinguished Scholastic Achievement Appointment

Comment: One comment recommended the needed flexibility to make “on the spot” appointments at job fairs, college visits, etc., and that a public announcement should not be required for this hiring authority.

Response: This comment has been carefully considered. While the notion of making “on the spot” appointments is highly desirable, no changes in the Federal Register notice have been made in response to this comment.

Comment: One comment addressed the current labor market conditions being extremely competitive with industry and academia for the small supply of highly-qualified and security clearable candidates with Masters Degrees or Ph.D.'s. in science or engineering. This might have been the case four years ago, but not today in southeast Michigan. If TARDEC believes this, why have people been told TARDEC doesn't participate in the tuition reimbursement program since we don't have trouble finding and keeping qualified people?

Response: The Distinguished Scholastic Achievement Appointment authority coupled with the Federal Register notice language in Section III.G.1.b, Critical Skills Training (Training for Degrees) provides enough flexibility for the ever changing labor markets. No changes in the Federal Register notice have been made in response to this comment.

3. Initial Probationary Period

Comment: One commenter recommended changing the language in this section to clarify authority of the TARDEC Director with respect to extending the three-year probationary period and to customizing the probationary period.

Response: The initial probationary period will not exceed three years for all newly hired employees. The TARDEC Director cannot extend this period of time but may limit it. To maintain flexibility, the construct of Initial Probationary Periods will be further defined in the Demonstration Project Internal Operating Instructions. No changes in the Federal Register notice have been made in response to this comment.

4. Supervisory Probationary Periods

Comment. One comment was received recommending that an existing supervisor should only be subject to an additional one-year probationary period if the change of assignment was initiated/requested by the employee.

Response: This comment has been carefully considered. The determination as to when a new supervisory probationary period is to be applicable will be a management decision and not initiated by an employee's request. No change in the Federal Register notice have been made in response to this comment.

5. Voluntary Emeritus Corps

Comment: One comment was received recommending deleting the sentences that state that voluntary emeritus assignments are not considered employee assignments and replace with, Voluntary Emeritus Corps service is gratuitous if the intent is to extend the Voluntary Emeritus individuals additional benefits of employees, such as the ability to go TDY and represent the government in non-contractual matters.

Response: This comment has been carefully considered. The intent of this new authority is to develop a mechanism to allow retired or separated employees to volunteer their services. They are not taking the place of government workers. To maintain consistency Section III.D.k, m, and n are modified to remove the word “employee” and replace with the word “volunteer.”

G. Internal Placement

A total of two comments were received under this category relating to two subtopics as follows:

1. Promotion

Comment: One comment identified that promotion actions may not result in an increase in employees' base pay since there is an overlap of salaries in different pay bands. The recommendation was to delete the sentence: “The move from one band to another must result in an increase in the employee's base pay to be considered a promotion.”

Response: This comment has been carefully reviewed. It is agreed that the identified sentence should be deleted. The following sentence is deleted from the Federal Register notice Section III.E.1: “The move from one band to another must result in an increase in the employee's base pay to be considered a promotion.” Since base pay dollars can overlap, the movement from a lower pay band to a higher pay band (e.g., DE-III to DE-IV) using the word “must” was incorrect.

2. Reassignment

Comment: One comment recommended all of Section III.(E)(6) beyond the first paragraph be moved to the pay setting Section III.F.6.

Response: The current sections are considered to be in a proper placement within the Federal Register notice. No changes in the Federal Register notice have been made in response to this comment.

H. Pay Administration

A total of four comments were received under this category relating to four subtopics as follows:

1. Pay and Compensation Ceilings

Comment: One comment mentioned base pay will be limited to the maximum base pay payable for each band. The commenter wanted to know if “control gates” are being eliminated under the demonstration project.

Response: The use of “control gates,” for the demonstration project, if used, will be described in the Demonstration Project Internal Operating Instructions. No changes in the Federal Register notice have been made in response to this comment.

2. Pay Setting for Appointment

Comment: One comment contained the recommendation that the Pay Setting for Appointments section be modified to specifically state that pay setting for initial entrance into the demonstration project from another personnel system is considered the same as an initial appointment.

Response: This comment has been carefully considered. It has been determined the current language provides the necessary flexibilities. No changes in the Federal Register notice have been made in response to this comment.

3. Pay Setting for Promotion

Comment: One comment contained the recommendation that the $10,000 limit on promotions be replaced by a percentage of base pay to create a system that can adapt as the General Schedule salary tables change. Over time, a fixed $10,000 amount will constitute a smaller and smaller percentage of base pay.

Response: The following sentence has been deleted from the Federal Register notice, Section III.F.5: “The maximum amount of a base pay increase for a promotion will not exceed $10,000, or other such amounts as established by the Personnel Management Board.” This sentence had an unintended limiting effect.

4. Supervisory and Team Leader Pay Differentials

Comment: One comment requested clarification on whether a supervisory/leader is eligible for a supervisory/leader pay adjustment and a supervisory/leader differential, or if the supervisor/leader is ineligible for one if another is received.

Response: Additional guidance on the Supervisory and Team Leader Pay Adjustments will be contained in the Demonstration Project Internal Operating Instructions. No changes in the Federal Register notice have been made in response to this comment.

I. Employee Development

One (1) comment was received under this section.

Comment: A commenter requested clarification on how the service obligation period will be computed. Will one academic year of training (30 semester hours or equivalent) require one year of service, or will the service obligation be computed based on actual classroom hours, which is a much shorter period of time?

Response: Additional guidance on critical skills training obligations will be contained in the Demonstration Project Internal Operating Instructions. No changes in the Federal Register notice have been made in response to this comment.

J. Reduction-In-Force

A total of four comments were received under this category relating to three subtopics as follows:

1. Retention Standing for Modified Term Appointments

Comment: Two comments requested clarification of the retention standing for employees on either a modified term appointment or a temporary appointment. Normally these two categories of appointments are not listed in Tenure Group. Both commenters suggested a review of Tenure Group determinations with a recommendation that both groups be identified as Tenure Group 0, and, therefore, not eligible to compete within a Reduction-In-Force (RIF).

Response: This suggestion has been fully reviewed; and it is agreed that employees in these two appointment groups should not receive Tenure Group III status for RIF purposes. The following sentence is deleted from the Federal Register notice Section III. H: “Modified term appointment and temporary employees are in tenure group III for RIF for purposes.” The following sentence is added to Section III.H: “Modified term appointment and temporary employees are in Tenure Group 0 and are not eligible to compete in a RIF.”

2. RIF Service Credit for Performance

Comment: One comment addressed the use of seven and four years with specific percentage of service credit based upon the OCS. A recommendation was provided for a review to determine if the seven and four years could be replaced with a mechanism by which 20, 16, and 12 years of additional RIF service credit could be used relating to the OCS similar to the traditional RIF procedures.

Response: After a careful review, there is agreement that additional RIF service credit for performance would be better defined using a three tiered credit system relating to the traditional format found in most General Schedule procedures. The last three OCS scores will still be used plus a percentage of the expected OCS. Federal Register notice Sections III.H.a and b are removed and replaced with the following: “a. 20 years of credit for each year the OCS is equal to or greater than 94 percent of the expected OCS. b. 16 years of credit for each year the OCS is less than 94 percent but greater than 92 percent of the expected OCS. c. 12 years of credit for each year the OCS is less than 92 percent but greater than 90 percent of the expected OCS. d. Zero (0) years of credit for each year the employee's OCS is less than 90 percent of the expected 0CS.”

3. Contribution Improvement Plan Assignment Rights

Comment: One comment called attention to granting assignment rights to any employee currently serving on a Contribution Improvement Plan (CIP) for RIF purposes and suggested it was not in the interest of the mission to place a nonperforming employee in a different position that has been identified as critical in a period of downsizing.

Response: The Federal Register notice language contained in Section III. H. has been reconsidered; and it has been concluded it appropriately addresses assignment rights for employees on a CIP. No changes in the Federal Register notice have been made in response to this comment.

K. Conversion From NSPS to the Demonstration Project

One (1) comment was received under this section.

Comment: A commenter recommended providing additional details addressing when and why conversions from NSPS to Lab Demo may not be at the current NSPS bands.

Response: The current Federal Register notice language contained in Section V.A.b. sets forth a conversion procedure that best fits the applicability of the TARDEC conversion situation. No changes have been made as a result of this comment.

L. Conversion From a Non-NSPS System to the Demonstration Project

Two (2) comments were received under this section.

Comment: One comment drew attention to the provision that employees who are on retained grade would not receive prorated Within Grade Increases if they are on a retained rate. Absent conversion to the demonstration project these employees would continue to receive Within Grade Increases for the duration of the period of retained grade as if they were never demoted.

Response: This comment has been carefully considered. General Schedule (GS) employees on retained Grade at the time of conversion into Lab Demo Project will be afforded the prorated Within-Grade Increase equity provisions as outlined in Section V.B. No changes in the Federal Register notice have been made in response to this comment.

Comment: One comment recommended deleting the sentence: “Employees who enter the demonstration project from other pay systems (DCIPS, ACQ Demo, or other STRLs) after initial implementation by lateral transfer, promotion, reassignment, reduction in band, or realignment will be subject to the pay rules that govern conversion out of their respective systems.” The commenter believes that it limits the ability to set pay in the lab demo.

Response: This comment has been carefully considered. This sentence refers to the losing activity providing pay equivalencies for use by the Lab Demo in setting pay under Lab Demo rules. Employees are placed into the Lab Demo using the Lab Demo pay setting provisions. No changes in the Federal Register notice have been made in response to this comment.

M. Conversion Out of the Demonstration Project

One (1) comment was received under this section.

Comment: This comment recommended deletion of the sentence, “For lateral reassignments, the equivalent GS grade and rate will become the employee's converted GS grade and rate after leaving the demonstration project (before any other action).” This sentence assumes that the lateral action is determined prior to identification of the conversion grade. In place of this sentence, recommend rewording the following sentence to include reassignment as well as promotion, transfers, etc. The conversion grade must first be identified in order to determine if the subsequent action is a promotion, reassignment or downgrade.

Response: This comment has been carefully considered. The detailed information contained in this sentence helps the receiving/gaining Human Resource Office to better understand how the Lab Demo system works. No changes in the Federal Register notice have been made in response to this comment.

N. Demonstration Project Costs

One (1) comment was received under this section.

Comment: It was recommended a review of the Design and Transition to NSPS expenses also be documented in addition to the three categories already identified in the Federal Register notice for Fiscal Years 2010 and 2011 in order to properly account for the actual and projected expenses made in conjunction of with the demonstration project.

Response: Table 9—Projected Development Costs has been modified to include related NSPS expenses. A line to cover Design and Transition from NSPS expenditures for FY 10 and FY 11 was added, plus the projected expenditures for the remaining categories were updated.

3. Access to Flexibilities of Other STRLs

Flexibilities published in this Federal Register notice shall be available for use by the STRLs previously enumerated in section 9902(c)(2) of title 5, United States Code, which are now redesignated in section 1105 of the NDAA for FY 2010, Public Law 111-84, 123 Stat. 2486, October 28, 2009, if they wish to adopt them in accordance with DoD Instruction 1400.37; pages 73248 to 73252 of volume 73, Federal Register; and after the fulfilling of any collective bargaining obligations.

Dated: March 1, 2011.
Morgan F. Park,
Alternate OSD Federal Register Liaison Office, Department of Defense.

Table of Contents

I. Executive Summary

II. Introduction

A. Purpose

B. Problems with the Present System

C. Changes Required/Expected Benefits

D. Participating Organizations

E. Participating Employees and Union Representation

F. Project Design

G. Personnel Management Board

III. Personnel System Changes

A. Pay Banding

B. Classification

C. Contribution-based Compensation and Appraisal System (CCAS)

D. Hiring Authority

E. Internal Placement

F. Pay Administration

G. Employee Development

H. Reduction-in-Force (RIF) Procedures

IV. Implementation Training

V. Conversion Into the Demonstration Project

A. Conversion from NSPS to the Demonstration Project

B. Conversion from Non-NSPS System to the Demonstration Project

C. Movement Out of the Demonstration Project

D. Personnel Administration

E. Automation

F. Experimentation and Revision

VI. Project Duration

VII. Evaluation Plan

A. Overview

B. Evaluation Model

C. Evaluation

D. Method of Data Collection

VIII. Demonstration Project Costs

A. Cost Discipline

B. Developmental Costs

IX. Required Waivers to Law and Regulation

Appendix A: TARDEC Employees by Duty Location

Appendix B: Occupational Series by Occupational Family

Appendix C: Contribution-Based Compensation and Appraisal System (CCAS) Factors

Appendix D: Intervention Model

I. Executive Summary

TARDEC is a subordinate organization of the U.S. Army Research, Development and Engineering Command (RDECOM). TARDEC is the U.S. Army's Ground Vehicle Center of Excellence and the ground systems integration domain owner for RDECOM. TARDEC provides engineering and scientific expertise for DoD manned and unmanned ground systems and ground support systems. It is the Nation's laboratory for advanced military automotive technology and the Army's lead for advanced science and technology research, demonstration, development, and full Life Cycle engineering for ground vehicle electronics and architecture, power and mobility, intelligent ground systems, maneuver support and sustainment, and survivability.

At TARDEC, the top priority is to deliver the most advanced technology solutions to improve the Nation's ground vehicle fleet. To do this effectively requires more than just hard work and dedication. It takes leadership, vision, and the determination to execute that vision. To be truly successful, the workforce needs to be able to lead, innovate, integrate, and deliver.

To achieve this goal, TARDEC must be able to hire, retain, and continually motivate enthusiastic, innovative, and highly-educated scientists and engineers, supported by accomplished business management and administrative professionals as well as a skilled administrative and technical support staff.

The goal of the project is to enhance the quality and professionalism of the TARDEC workforce through improvements in the efficiency and effectiveness of the human resource system. The project interventions will strive to achieve the best workforce for the TARDEC mission, adjust the workforce for change, and improve workforce satisfaction. The TARDEC proposed demonstration project is similar to the Department of Defense Civilian Acquisition Workforce Personnel Demonstration Project, commonly known as the “Acq Demo.” TARDEC has been using the Acq Demo's Contribution-Based Compensation and Appraisal System (CCAS) and its pay banding structure for a number of years. The TARDEC Project also uses concepts from the U.S. Army Communications-Electronics Research, Development and Engineering Center (CERDEC) demonstration project and the Naval Research Laboratory demonstration project. The results of the project will be evaluated within five years of implementation.

II. Introduction

A. Purpose

The purpose of the project is to demonstrate that the effectiveness of DoD STRLs can be enhanced by expanding opportunities available to employees and by allowing greater managerial control over personnel functions through a more responsive and flexible personnel system. Federal laboratories need more efficient, cost-effective, and timely processes and methods to acquire and retain a highly creative, productive, educated, and trained workforce. This project, in its entirety, attempts to improve employees' opportunities and provide managers, at the lowest practical level, the authority, control, and flexibility needed to achieve the highest quality organization and hold them accountable for the proper exercise of this authority within the framework of an improved personnel management system.

Many aspects of a demonstration project are experimental. Modifications may be made from time to time as experience is gained, results are analyzed, and conclusions are reached on how the system is working. The provisions of this project plan will not be modified, or extended to individuals or groups of employees not included in the project plan, without the approval of the ODUSD(CPP). The provisions of DoDI 1400.37 are to be followed for any modifications, adoptions, or changes to this demonstration project plan.

B. Problems With the Present System

TARDEC has participated in a number of personnel systems and personnel demonstrations over the past 25 years. These include the current Civil Service General Schedule (GS) system, the Acq Demo Project, and the NSPS. In October 2009, as part of the NDAA for FY 2010, TARDEC was designated as a STRL for the purpose of designing and implementing a personnel management demonstration project for conversion of employees from the personnel system(s) which applied to them on October 28, 2009. TARDEC's experience with each of these prior personnel systems was that, although each had positive features, each also had negative aspects. As a result of TARDEC's experience, it was determined that certain features from the earlier systems were worthwhile to carry forward and any shortcomings/limitations corrected or alleviated.

The current GS system has existed in essentially the same form since 1949. Work is classified into one of fifteen overlapping pay ranges that correspond with the fifteen grades. Base pay is set at one of those fifteen grades and the ten interim steps within each grade. The Classification Act of 1949 rigidly defines types of work by occupational series and grade, with very precise qualifications for each job. This system does not quickly or easily respond to new ways of designing work and changes in the work itself.

The performance management model that has existed since the passage of the Civil Service Reform Act in 1980 has come under extreme criticism. Employees frequently report there is inadequate communication of performance expectations and feedback on performance. There are perceived inaccuracies in performance ratings with general agreement that the ratings are inflated and often unevenly distributed by grade, occupation, and geographic location.

The need to change the current hiring system is essential as TARDEC must be able to recruit and retain scientific, engineering, acquisition support and other professionals, and skilled technicians. TARDEC must be able to compete with the private sector for the best talent and be able to make job offers in a timely manner with the attendant bonuses and incentives to attract high quality employees and be in compliance with public law.

Finally, current limitations on training, retraining and otherwise developing employees make it difficult to correct skill imbalances and to prepare current employees for new lines of work to meet changing missions and emerging technologies.

TARDEC's proposed personnel management demonstration project, by building on previous strengths and addressing shortcomings, is intended to provide the highest potential for movement to a single system that will meet the needs of TARDEC and all its employees.

C. Changes Required/Expected Benefits

The primary benefit expected from this demonstration project is greater organizational effectiveness through increased employee satisfaction. The long-standing Department of the Navy's “China Lake” and the National Institute of Standards and Technology (NIST) demonstration projects have produced impressive statistics on increased job satisfaction and quality of work versus that for the Federal workforce in general. This project will demonstrate that a human resource system tailored to the mission and needs of the TARDEC workforce will facilitate increased:

1. Quality in the workforce and resultant products;

2. Timeliness of key personnel processes;

3. Retention of “excellent performers;”

4. Success in recruitment of personnel with critical skills;

5. Management authority and accountability;

6. Satisfaction of customers; and

7. Workforce satisfaction with the personnel management system.

An evaluation model was developed for the Director, Defense, Research and Engineering (DDR&E) in conjunction with STRL service representatives and the Office of Personnel Management (OPM). The model will measure the effectiveness of this demonstration project and will be used to measure the results of specific personnel system changes.

D. Participating Organizations

TARDEC is comprised of employees located at the main site in Warren, MI, with others geographically dispersed at the locations shown in Appendix A. TARDEC has employees matrixed to Program Executive Office Combat Support and Combat Service Support; Program Executive Office Ground Combat Systems; Program Executive Office Integration; and Tank Automotive Command (TACOM) Life Cycle Management Command (LCMC) Joint Project Office. Successor organizations will continue coverage in the demonstration project.

E. Participating Employees and Union Representation

This demonstration project will cover approximately 1,427 TARDEC civilian employees under title 5, U.S.C. in the occupations listed in Appendix B. The project plan does not cover members of the Senior Executive Service (SES), Scientific and Professional (ST) employees, Federal Wage System (FWS) employees, employees covered by the Defense Civilian Intelligence Personnel System (DCIPS), Department of Army (DA) and Army Command centrally funded interns, or students employed under the Summer Hire Program.

Department of Army and Army Material Command centrally funded interns will not be converted to the demonstration project until they reach their full performance level. They will continue to be covered under the Total Army Performance Evaluation System (TAPES). The American Federation of Government Employees (AFGE) Local 1658 represents approximately 90% of TARDEC's professional and non-professional workforce.

To foster union acceptance of TARDEC's proposed personnel demonstration project, initial discussions with the Union officials began in December 2009. Negotiations will begin in earnest after publication of this Federal Register notice (FRN). TARDEC will continue to fulfill its obligation to consult and/or negotiate with all labor organizations in accordance with 5 U.S.C. 4703(f) and 7117, as applicable.

F. Project Design

In October 2009, section 1105 of NDAA for FY 2010 directed TARDEC to transition to a laboratory demonstration project. TARDEC senior leadership decided to move toward adopting many aspects of both the Acq Demo and the CERDEC laboratory personnel demonstration project as modified by this FRN. The Acq Demo project was approved in 1999 and the CERDEC project was approved in 2001. TARDEC hopes to benefit from using the best practices from these demonstration projects.

G. Personnel Management Board

1. TARDEC is creating a Personnel Management Board to oversee and monitor the fair, equitable, and consistent implementation of the provisions of the demonstration project to include establishment of internal controls and accountability. Members of the board will be senior leaders appointed by the TARDEC Director. As needed, ad hoc members (such as labor counsel, human resource representatives, etc.) will serve as advisory members to the board.

2. The board will execute the following:

a. Determine the composition of the CCAS pay pools in accordance with the guidelines of this proposal and internal procedures;

b. Review operation of pay pools and provide guidance to pay pool managers;

c. Oversee disputes in pay pool issues;

d. Formulate and execute the civilian pay budget;

e. Manage the awards pools;

f. Determine hiring and promotion-based pay as well as exceptions to CCAS base pay increases;

g. Conduct classification review and oversight, monitor and adjust classification practices, and decide board classification issues;

h. Approve major changes in position structure;

i. Address issues associated with multiple pay systems during the demonstration project;

j. Establish contribution goals and other evaluation descriptors;

k. Assess the need for changes to demonstration project procedures and policies;

l. Review requests for Supervisory/Team Leader Base Pay Adjustments and provide recommendations to the appropriate Center Director;

m. Ensure in-house budget discipline;

n. Manage the number of employees by occupational family and pay band;

o. Develop policies and procedures for administering Developmental Opportunity Programs;

p. Ensure that all employees are treated in a fair and equitable manner in accordance with the policies, regulations and guidelines covering this demonstration project; and,

q. Monitor the evaluation of the project.

III. Personnel System Changes

A. Pay Banding

The design of the TARDEC pay banding system takes advantage of the many reviews performed by OPM, DoD, and DA. The design has the benefit of being preceded by exhaustive studies of pay banding systems currently practiced in the Federal sector, to include those practiced by the Navy's “China Lake” experiment and NIST. The pay band system is designed to facilitate conversion, when and if appropriate, of GS, Acq Demo, and NSPS employees into the TARDEC demo.

1. Occupational Families, Career Paths, and Pay Band Levels

Occupations with similar characteristics will be grouped together into one of three occupational families with career paths and pay band levels designed to facilitate pay progression. These occupational families are Engineering and Science (E&S), Business and Technical (B&T), and General Support (GEN). Each occupational family's career path will be composed of pay bands corresponding to recognized advancement and career progression expected within the occupations. These career paths and their pay bands will not be the same for each occupational family. Each career path will be divided into three to five pay bands. Employees track into an occupational family based on their current OPM classification series as provided in Appendix B. The current occupations have been examined, and their characteristics and distribution have served as guidelines in the development of the following three occupational families:

Engineering and Science (E&S) (Pay Plan DB): This occupational family includes technical professional positions such as engineers, physicists, chemists, mathematicians, operations research analysts, and computer scientists. Specific course work or educational degrees are required for these occupations. Five pay bands have been established for the E&S occupational family:

a. Band I is a student trainee track covering GS-1, step 1, through GS-4, step 10.

b. Band II is a developmental/full performance level track covering GS-5, step 1, through GS-11, step 10.

c. Band III is a full-performance technical track covering GS-12, step 1, through GS-13, step 10. Some first-level supervisory positions may also be included in this band.

d. Band IV includes both senior technical positions along with supervisors-managers covering GS-14, step 1, through GS-15, step 10.

e. Band V provides the ability to accommodate science and engineering positions having duties and responsibilities that exceed the GS-15 classification criteria. The DoD is developing classification, compensation, and performance management policy, guidance, and implementation processes for this pay band level that will be published in a separate FRN. TARDEC will supplement this information through internal operating guidance.

Business & Technical (B&T) (Pay Plan DE): This occupational family includes such positions as program acquisition specialists, equipment specialists, engineering and electronics technicians, finance, accounting, administrative, and management analysts. Employees in these positions may or may not require specific course work or educational degrees. Four pay bands have been established for the B&T occupational family:

a. Band I is a student trainee track covering GS-1, step 1, through GS-4, step 10.

b. Band II is a developmental/full performance track covering GS-5, step 1, through GS-11, step 10.

c. Band III is a full performance track covering GS-12, step 1, through GS-13, step 10.

d. Band IV is a senior technical/manager track covering GS-14, step 1, through GS-15, step 10.

General Support (GEN) (Pay Plan DK): This occupational family is composed of positions for which specific course work or educational degrees are not required. Clerical work usually involves the processing and maintenance of records. Assistant work requires knowledge of methods and procedures within a specific administrative area. This family includes such positions as secretaries, office automation clerks, and budget/program/computer assistants. Three pay bands have been established for the GEN occupational family:

a. Band I includes entry-level positions covering GS-1, step 1, through GS-4, step 10.

b. Band II includes full-performance positions covering GS-5, step 1, through GS-7, step 10.

c. Band III includes senior technicians/assistants/secretaries covering GS-8, step 1, through GS-10, step 10.

2. Pay Band Design

The pay bands for the TARDEC Lab Demo occupational families and how they relate to the current GS framework are shown in Table 1.

Table 1—TARDEC Lab Demo Pay Bands With Equivalent GS Grades
Occupational family | Lab demo pay bands with equivalent GS grades: I | Lab demo pay bands with equivalent GS grades: II | Lab demo pay bands with equivalent GS grades: III | Lab demo pay bands with equivalent GS grades: IV | Lab demo pay bands with equivalent GS grades: V
DB, Engineering & Science | GS1-4 | GS 5-11 | GS 12-13 | GS 14-15 | > GS-15
DE, Business & Technical | GS 1-4 | GS 5-11 | GS-12-13 | GS-14-15 |
DK, General Support | GS 1-4 | GS 5-7 | GS 8-10 |  |

The pay bands for the TARDEC Lab Demo occupational families and how they relate to the current Department of Defense Civilian Acquisition Workforce Personnel Demonstration Project framework are shown in Table 2.

Table 2—TARDEC Lab Demo Pay Bands With Equivalent Acq Demo Pay Bands
Occupational family | Lab demo pay bands with equivalent Acq demo pay bands: I | Lab demo pay bands with equivalent Acq demo pay bands: II | Lab demo pay bands with equivalent Acq demo pay bands: III | Lab demo pay bands with equivalent Acq demo pay bands: IV | Lab demo pay bands with equivalent Acq demo pay bands: V
DB, Engineering & Science | NH-I | NH-II | NH-III | NH-IV |
DE, Business & Technical | NH-I, NJ-I | NH-II, NJ-II, NJ-III | NH-III, NJ-IV | NH-IV |
DK, General Support | NK-I | NK-II | NK-III |  |

The pay bands for the TARDEC Lab Demo occupational families and how they relate to the NSPS conversion framework are shown in Table 3.

Table 3—TARDEC Lab Demo Pay Bands With Equivalent NSPS Pay Bands
Occupational family | Lab demo pay bands with equivalent NSPS pay bands*: I | Lab demo pay bands with equivalent NSPS pay bands*: II | Lab demo pay bands with equivalent NSPS pay bands*: III | Lab demo pay bands with equivalent NSPS pay bands*: IV | Lab demo pay bands with equivalent NSPS pay bands*: V
DB, E&S | YP-1 | YD-1, YP-1 | YD-2, YF-2 | YD-3, YF-2, YF-3 |
DE, Business & Technical | YP-1, YB-1, YE-1 | YA-1, YA-2, YB-1, YB-2, YB-3, YE-1, YE-2, YE-3, YP-1 | YA-2, YB-3, YC-2, YE-3, YE-4 | YA-3, YC-2, YC-3 |
DK, General Support | YB-1, YE-1, YP-1 | YB-1, YB-2, YE-1, YE-2, YP-1 | YB-2, YE-2, YP-1 |  |
*NSPS Pay Bands overlap Lab Demo bands and Occupational Families

3. Science and Engineering Positions Classified Above GS-15 (Pay Band V)

The career path pay banding plan for the E&S occupational family includes a pay band V to provide the ability to accommodate positions having duties and responsibilities that exceed the GS-15 classification criteria. This pay band is based on the Above GS-15 Position concept found in other STRL personnel management demonstration projects that was created to solve a critical classification problem. The STRLs have positions warranting classification above GS-15 because of their technical expertise requirements including inherent supervisory and managerial responsibilities. However, these positions are not considered to be appropriately classified as Scientific and Professional Positions (STs) because of the degree of supervision and level of managerial responsibilities. Neither are these positions appropriately classified as Senior Executive Service (SES) positions because of their requirement for advanced specialized scientific or engineering expertise and because the positions are not at the level of general managerial authority and impact required for an SES position.

The original Above GS-15 Position concept was to be tested for a five-year period. The number of trial positions was set at 40 with periodic reviews to determine appropriate position requirements. The Above GS-15 Position concept is currently being evaluated by DoD management for its effectiveness; continued applicability to the current STRL scientific, engineering, and technology workforce needs; and appropriate allocation of billets based on mission requirements. The degree to which the laboratory plans to participate in this concept and develop classification, compensation, and performance management policy, guidance, and implementation processes will be based on the final outcome of the DoD evaluation (see Section III.A.1.e).

B. Classification

1. Occupational Series

The GS classification system has over 400 occupational series, which are divided into 23 occupational groupings. TARDEC currently has positions in approximately 65 occupational series that fall into approximately three occupational groupings. All positions listed in Appendix B will be in the classification structure. Provisions will be made for including other occupations in response to changing missions.

2. Classification Standards and Position Descriptions

TARDEC will use an automated classification system. The present system of OPM classification standards will be used for the identification of proper series and occupational titles of positions within the demonstration project. Current OPM Functional Guides for Within White Collar Work will be used to aid in position classification suitability and form the framework for pay band level determinations. Current OPM position classification standards will not be used to grade positions in this project. However, the grading criteria in those standards will be used as a framework to develop new and simplified pay band factor level descriptors for each pay band determination. The objective is to record the essential criteria for each pay band within each occupational family career path by stating the characteristics of the work, the responsibilities of the position, the competencies required, and the expected contributions. The pay band factor level descriptors will serve as both classification criteria and assessment criteria and may be found in Appendix C New position descriptions will replace the current position/job descriptions. The pay band factor level descriptors for each pay band will serve as an important component in the new position description, which will also include position-specific information, and provide data element information pertinent to the job. The computer-assisted process will produce information necessary for position descriptions. The new descriptions will be easier to prepare, minimize the amount of writing time, and make the position description a more useful and accurate tool for other personnel management functions.

Specialty work codes (narrative descriptions) may be used to further differentiate types of work and the competencies required for particular positions within an occupational family and pay band. Each code represents a specialization or type of work within the occupation.

3. Fair Labor Standards Act

Fair Labor Standards Act (FLSA) exemption and non-exemption determinations will be consistent with criteria found in 5 CFR part 551. All demonstration project positions are covered by the FLSA unless they meet the criteria for exemption. Classification Specialists will evaluate positions on a case-by-case basis comparing the duties and responsibilities assigned, the pay band factor level descriptors for each pay band level, and the FLSA criteria in accordance with 5 CFR part 551. Additionally, the advice and assistance of the servicing Civilian Personnel Advisory Center will be obtained in making determinations. The benchmark position descriptions will not be the sole basis for the determination. Basis for exemption will be documented and attached to each position description. Exemption criteria will be narrowly construed and applied only to those employees who clearly meet the spirit of the exemption. Changes will be documented and provided to the Civilian Personnel Advisory Center.

4. Classification Authority

The TARDEC Director will have delegated classification authority and may, in turn, re-delegate this authority to appropriate levels. Position descriptions will be developed to assist managers in exercising delegated position classification authority. Managers will identify the occupational family, job series, functional code, specialty work code, pay band level, and the appropriate acquisition codes. Personnel specialists will provide ongoing consultation and guidance to managers and supervisors throughout the classification process. These decisions will be documented on the position description.

5. Classification Appeals

Classification appeals under this demonstration project will be processed using the following procedures: An employee may appeal the determination of occupational family, occupational series, position title, and pay band level of his/her position at any time. An employee must formally raise the area of concern to supervisors in the immediate chain of command, either verbally or in writing. If an employee is not satisfied with the DoD response, he or she may then appeal to OPM only after DoD has rendered a decision on all the provisions of the demonstration project. Appellate decisions from OPM are final and binding on all administrative, certifying, payroll, dispersing, and accounting officials of the Government. Time periods for cases processed under 5 CFR part 511 apply.

An employee may not appeal the accuracy of the position description, the demonstration project classification criteria, or the pay-setting criteria; the assignment of occupational series to the occupational family; the propriety of a pay schedule; or matters grievable under an administrative or negotiated grievance procedure.

The evaluations of classification appeals under this demonstration project are based upon the demonstration project classification criteria. Case files will be forwarded for adjudication through the CPAC/CHRA providing personnel service and will include copies of appropriate demonstration project criteria.

C. Contribution-Based Compensation and Appraisal System (CCAS)

1. Overview

The purpose of CCAS is to provide an effective, efficient, and flexible method for assessing, compensating, and managing the TARDEC workforce. CCAS is essential for the development and continued growth of the high quality, extremely productive, and innovative workforce needed to achieve a quality, agile and innovative organization and meet mission requirements. The CCAS allows for more employee involvement in the assessment process, fosters increased communication between supervisor and employee, promotes a clear accountability of performance, facilitates employee career progression, and provides an understandable and rational basis for pay changes by linking pay, performance, and contribution. The CCAS process described herein applies to all career paths and pay band levels I through IV. The assessment process for E&S Pay Band V positions will be based on the final outcome of the DoD evaluation and documented in TARDEC Internal Operating Instructions (see Section III.A.1. e. for additional information).

CCAS is an assessment system that measures the employee's level of contribution to the organization's mission and how well the employee performed a job. Contribution is simply defined as the measure of the demonstrated value of what an employee did in terms of accomplishing or advancing the organizational objectives and mission impact. CCAS promotes base pay adjustment decisions made on the basis of an individual's overall annual contribution and current base pay, in relation to the other contributions and their level of base pay in the pay pool. The measurement of overall contribution is through a rating process which determines the Overall Contribution Score (OCS).

An employee's performance is a component of contribution that influences the ultimate OCS. Contribution is measured by using a set of factors, discriminators, and descriptors, each of which is relevant to the success of the TARDEC mission. Taken together, these factors, discriminators, and descriptors capture the critical content of jobs in each career path. These factors, discriminators, and descriptors may be modified or supplemented if experience or changing mission requirements indicates a need to do so. These factors, discriminators, and descriptors are the same as those to classify a position at the appropriate pay band level.

The six (6) factors are:

1. Problem Solving,

2. Teamwork/Cooperation,

3. Customer Relations,

4. Leadership/Supervision,

5. Communication, and

6. Resource Management.

Each factor has multiple levels of increasing contribution corresponding to the pay band levels. Each factor contains descriptors for each respective level within the relevant career path. See Appendix C for CCAS Factor Descriptions, Level Descriptors, and Discriminators.

The appropriate occupational family career path pay band level performance factor descriptors are used by the rating official to determine the employee's actual contribution score. Employees can score within, above, or below their pay band level. For example, a pay band level II employee could score in the pay band level I, II, III, or IV range. Therefore, for the CCAS process, descriptors for all pay band levels of the occupational family performance factors are presented to better assist the supervisor with the employee assessment.

Normally, the rating period will be one year. The minimum rating period will be 90 days. CCAS payouts can be in the form of increases to base pay and/or in the form of bonuses that are not added to base pay but rather are given as a lump sum payment. Other awards such as special acts, time-off awards, etc., will be retained separately from the CCAS payouts.

The system will have the flexibility to be modified, if necessary, as more experience is gained under the project.

3. Pay Pools

TARDEC employees will be placed into pay pools that are defined for the purpose of determining performance payouts under the CCAS system. The TARDEC Director will establish pay pools. Typically, pay pools will have between 35 and 300 employees. A pay pool should be large enough to encompass a reasonable distribution of ratings but not so large as to compromise rating consistency. Neither the pay pool manager nor supervisors within a pay pool will recommend or set their own individual pay. Decisions regarding the amount of the performance payout are based on the established formal payout calculations.

Funds within a pay pool available for performance payouts are divided into two components, base pay and bonus. These funds will be defined based on historical data. Base pay increase fund will be set at no less than two percent of total base pay. The bonus amount will be set at no less than one percent of total base pay. The TARDEC Personnel Management Board will annually review the pay pool funding and recommend adjustments to the TARDEC Director to ensure cost discipline over the life of the demonstration project.

4. Annual Appraisal Cycle and Rating Process

Typically, the annual appraisal cycle begins on October 1 and ends on September 30 of the following year. At the beginning of the annual appraisal period, the pay band level descriptors for each factor will be provided to employees so that they know the basis on which their performance will be assessed. At the discretion of the pay pool manager, weights will be applied to the factors. A weight of zero may not be applied to any factor and the sum of all weights must equal 100. Employees will be informed of the weights at the beginning of the rating cycle.

Supervisor and employee discussion of specific work assignments and established contribution goals for the rating period for each of the six factors should be conducted on an ongoing basis. These goals can be modified during the rating period and form the foundation of the contributions expected to be achieved.

Typically, the rating official is the first-level supervisor. If the current first-level supervisor has been in place for less than 90 days during the rating cycle, the second-level supervisor serves as the initial rating official. If the second-level supervisor is in place for less than 90 days during the rating cycle, the next higher level supervisor in the employee's rating chain conducts the assessment.

Employees and supervisors alike are expected to actively participate in on-going formal and informal performance discussions regarding expectations. The timing of these discussions will vary based on the nature of work performed, but will occur at least at the mid-point and end of the rating period. At least one review, normally the mid-point review, will be documented as a progress review. More frequent, task specific, discussions may be appropriate in some organizations.

The employee will provide a list of his/her accomplishments to the supervisor at both the mid-point and end of the rating period using the six Contribution Factors described in Section III.C.1. An employee may elect to provide self-ratings on the contribution/performance factors and/or solicit input from team members, customers, peers, supervisors in other units, subordinates, and other sources which will assist the supervisor in fully evaluating contributions. At the end of the annual appraisal period, the immediate supervisor (rating official), from employees' inputs and his/her own knowledge, identifies for each employee the appropriate contribution level and recommends the OCS.

To determine the OCS, numerical values are assigned based on the contribution levels of individuals, using the ranges shown in Table 4. Generally, the OCS is calculated by averaging the numerical values (as weighted) assigned for each of the six performance/contribution factors. (All OCS's will be rounded to the nearest whole number). The rating official in conjunction with the second-level supervisor reviews the OCS for all employees, correcting any inconsistencies identified and making the appropriate adjustments in the factor ratings.

Table 4—Contribution Score Ranges by Occupational Family
Pay band levels |  | Engineering & science (DB): Point range | Business & technical (DE): Point range | General support (DK): Point range
| Very High | 115 | 115 | 70
V | Range | 100-114 |  |
| High | 96-100 | 96-100 |
IV | Med | 84-95 | 84-95 |
| Low | 79-83 | 79-83 |
| High | 79-83 | 79-83 | 57-61
III | Med | 67-78 | 67-78 | 47-56
| Low | 61-66 | 61-66 | 38-46
| High | 62-66 | 62-66 | 42-46
II | MH | 51-61 | 51-61 |
| Med | 41-50 | 41-50 | 30-41
| ML | 30-40 | 30-40 |
| Low | 22-29 | 22-29 | 22-29
| High | 24-29 | 24-29 | 24-29
I | Med | 06-23 | 06-23 | 06-23
| Low | 0-5 | 0-5 | 0-5

The pay pool panel conducts a final review of the OCS for each employee in the pay pool. The pay pool panel has the authority to make OCS adjustments, after discussion with the initial rating officials, to ensure equity and consistency. Final approval of OCS rests with the pay pool manager, the individual within the organization responsible for managing the CCAS process. The OCS, as approved by the pay pool manager, becomes the rating of record. Rating officials will communicate the factor scores and OCS to each employee and discuss the results.

If on October 1, the employee has served under CCAS for less than ninety (90) consecutive calendar days, the rating official shall wait for the subsequent annual cycle to assess the employee.

Employees who have served under CCAS for less than 90 consecutive calendar days shall not receive contribution rating increases or contribution awards for that cycle.

5. Linking OCS to Base Pay Adjustment

a. The Normal Pay Range (NPR)

The CCAS integrated pay schedule provides a direct link between contribution, performance, and base pay. This is shown by the graph in Table 5. The horizontal axis spans from 0 to the maximum OCS of 115 for positions in pay band levels I through V. Employees who are performing above the defined criteria of the top pay band level may not exceed the OCS score of 115. The vertical axis spans from zero dollars to the dollar equivalent of the highest positions authorized under this lab demonstration. This encompasses the full base pay range (excluding locality pay and staffing supplements) under this demonstration for the given calendar year (note: Table 5 currently depicts Calendar Year 2010). Each year the rails for the NPR are adjusted based on the GS general pay increase under 5 U.S.C. 5303. The area between the upper and lower rails is considered the normal pay range; when an annual overall contribution score (OCS) plotted against a base pay rate falls on or within the NPR rails, the base pay rate is considered to be appropriate. While there may be rates of base pay that fall above or below the NPR that could be considered not appropriate, there may be circumstances to account for these rates of base pay outside the NPR. Such circumstances as saved pay or minimal contributions/performance could account for base pay rates above the NPR. For base pay rates below the NPR, such situations as exceptional contributions or growth in position responsibilities may warrant higher base pay. Employees whose annual OCS plotted against their base pay falls on or within the rails are considered appropriately compensated. Employees whose current base pay falls above or below the NPR for their assessed contribution score are considered inappropriately compensated.

b. The NPR was established using the following parameters:

(1) The lowest possible score is an OCS of 0, which equates to the lowest base pay under this demonstration project, GS-1, step 1,

(2) The OCS of 115 equates to the maximum base pay of Pay Band V.

The upper and lower rails are determined by the formulae below, encompass an area of +/- 8.0 percent in terms of base pay which correlates to approximately +/- 4.0 OCS points.

Table 5—Normal Pay

c. Formulae:

Given these constraints, the formulae for the upper and lower rails found in Table 5 are:

Base pay upper rail = (GS-1, Step 1) * (1.0800) * (1.020043) OCS

Base pay lower rail = (GS-1, Step 1) * (0.9200) * (1.020043) OCS

d. The NPR is the same for all the occupational families. What varies among the occupational families are the beginnings and endings of the pay band levels. The minimum and maximum numerical OCS values and associated base pay for each pay band level by occupational family are provided in Table 5. These minimum and maximum breakpoints represent the lowest and highest base pay for the bands; and the minimum and maximum base pay possible for each pay band level. Locality pay or staffing supplements are not included in the NPR but are added to base pay as appropriate.

Table 6—OCS and Pay Band Base Pay Ranges
Occupational family | $ (CY10 OCS salaries): I | $ (CY10 OCS salaries): II | $ (CY10 OCS salaries): III | $ (CY10 OCS salaries): IV | $ (CY10 OCS salaries): V *
E&S (DB) | $17,803-$31,871 | $27,431-$65,731 | $60,283-$93,175 | $84,697-$129,517 | TBD
| 0-29 | 22-66 | 61-83 | 79-100 | 100-115
Business & Technical (DE) | $17,803-$31,871 0-29 | $27,431-$65,731 22-66 | $60,283-$93,175 61-83 | $84,697-$129,517 79-100 |
General Support (DK) | $17,803-$31,871 | $27,431-$44,176 | $37,631-$59,505 |  |
| 0-29 | 22-51 | 38-61
* Pay Band V is above GS-15. Base pay amounts to be determined.

e. OCS Base Pay Adjustment Guidelines

After the pay pool manager approves the OCS for all employees in the pay pool, the current base pay versus OCS is plotted for all employees on a chart similar to Table 7. This plot relates contribution to base pay, and identifies the placement of each employee into one of three regions: Inappropriately Compensated (A Region—above the NPR), Appropriately Compensated (C Region—within the NPR), or Inappropriately Compensated (B Region—below the NPR).

In Table 7, employee C is in the Appropriately Compensated Region (falls on or within the NPR). Employee B is in the Inappropriately Compensated Region (falls below the lower NPR) for his/her contribution to the organization. Employee A is in the Inappropriately Compensated Region above the NPR (i.e., receives high base pay due to such circumstances such as saved pay or contributions do not justify the base pay).

f. Table 8 illustrates the additional pay categories available for the three groupings of employees.

The employees whose base pay falls within the NPR must receive the full General Pay Increase (GPI), may receive a contribution rating increase of up to 6 percent, and may receive a contribution award. The contribution rating increase is included as a permanent increase in base pay, but the contribution award is a lump-sum payment that does not affect base pay.

The employees whose base pay falls above the NPR could be denied part or all of the GPI and may receive no contribution rating increase or contribution bonus. The intent of the demonstration project is to allow managers to retain the ability to determine how much, if any, of the general pay increase would be authorized on a case-by-case basis.

The employees whose base pay falls below the NPR must receive the full general pay increase, may receive up to a 20 percent permanent increase in pay, and also may receive a contribution award.

Employees on retained rate in the demonstration plan will receive base pay adjustments in accordance with 5 U.S.C. 5363 and 5 CFR Part 536. An employee receiving a retained rate is not eligible for a contribution rating increase, but may receive a contribution award.

In general, those employees whose base pay falls below the NPR should expect to receive greater percentage base pay increases than those whose base pay is above the NPR. Over time, people will migrate closer to the normal pay range and receive base pay appropriate for their level of contribution.

Employees whose OCS would result in awarding a contribution rating increase such that the base pay exceeds the maximum base pay for their current pay band level may receive a contribution award equaling the difference.

Table 8—Compensation Eligibility Chart
Category | General pay increase | Contribution base pay increase | Contribution bonus | Locality pay ¹ | Staffing supplement
Above the NPR | Could be reduced or denied | NO | NO | YES | Could be reduced or denied.
Within the NPR | YES | YES ²—Up to 6 percent | YES ⁵ | YES | YES.
Below the NPR | YES | YES ³,⁴—Up to 20 percent | YES ⁵ | YES | YES.
¹ Base pay plus locality pay may not exceed Executive Level IV adjusted base pay. S&E pay band level V cap to be determined.
² May not exceed upper rail of NPR for employee's OCS or maximum base pay for current pay band level.
³ Over 20 percent requires Director's approval.
⁴ May not exceed 6 percent above the lower rail or the maximum base pay for current pay band level.
⁵ Pay pool manager approves up to $10,000. Amounts exceeding $10,000 require Director's approval.

6. Accelerated Compensation for Developmental Positions (ACDP)

(a) Accelerated Compensation for Developmental Positions (ACDP) is a pay-setting provision that may be used to recognize the development and attainment of job-related competencies for TARDEC employees participating in training programs, internships, or other developmental capacities as determined by the TARDEC Director. The ACDP includes TARDEC employees serving under the Student Career Experience Program (SCEP) and Student Temporary Employment Program (STEP). ACDP is an increase to base salary. It provides management the opportunity to increase the base pay of employees in developmental positions at rates which match or exceed career ladder promotion rates under the GS system or other labor market forces.

(b) An ACDP increase to base salary may be awarded at anytime throughout the rating year. In order to receive an ACDP, the employee must be in a pay and duty status, have been on an approved CCAS standard for 90 consecutive days and have successfully met the Contribution Goal Objectives of the CCAS standard as determined by a management official.

(c) ACDP is payment in addition to the annual contribution rating increase and contribution award. It generally will not exceed 20 percent of the employee's base pay; however, a higher increase may be provided on a case-by-case basis if approved by an official who is at a higher level than the official who made the initial decision.

(d) ACDP base pay increase is separate funding from the pay pool process.

7. Inadequate CCAS Contribution

Inadequate performance at any time during the appraisal period is considered grounds for initiation of a reduction-in-pay or removal action. The following procedures replace those established in 5 U.S.C. 4303 pertaining to reductions in grade or removal for unacceptable performance except with respect to appeals of such actions. 5 U.S.C. 4303(e) provides the statutory authority for appeals of contribution-based actions. As is currently the situation for performance-based actions taken under 5 U.S.C. 4303, contribution-based actions shall be sustained if the decision is supported by substantial evidence and the Merit Systems Protection Board shall not have mitigation authority with respect to such actions. The separate statutory authority to take contribution-based actions under chapter 75 of title 5, U.S.C., as modified in the waiver section of this notice (section IX), remains unchanged by these procedures.

When an employee's OCS plots above the upper rail of the NPR and the employee is considered to be contributing inadequately the supervisor has two options. The first is to take no action but to document this decision in a memorandum for the record. A copy of this memorandum will be provided to the employee and to higher levels of management. The second option is to inform the employee, in writing, that unless the contribution increases to, and is sustained at, a higher level, the employee may be reduced in pay, reduced in pay band level, or removed.

The second option will include a Contribution Improvement Plan (CIP). The CIP will state how the employee's contribution is inadequate, what improvements/results are required, recommendations on how to achieve adequate contribution, assistance that the laboratory may offer to the employee to assist in improving contribution, and consequences of failure to improve. Additionally, the CIP must include standards for adequate contribution, actions required of the employee, and time in which they must be accomplished to increase and sustain the employee's contribution at an adequate level. When an employee is placed on a CIP, the rating official will afford the employee a reasonable opportunity (a minimum of 60 days) to demonstrate acceptable contribution. These provisions also apply to an employee whose contribution deteriorates during the year.

Employees who are on a CIP at the time pay determinations are made do not receive performance payouts or the annual GPI. An employee who receives an unacceptable OCS rating of record will not receive any portion of the GPI or RIF service credit until such time as his/her performance improves to the acceptable level and remains acceptable for at least 90 days. When the employee has performed acceptably for at least 90 days, the GPI will not be retroactive but will be granted at the beginning of the next pay period after the supervisor authorizes its payment.

Once an employee has been afforded a reasonable opportunity to demonstrate adequate contribution but fails to do so, a reduction-in-pay (which may include a change to a lower pay band level and/or reassignment), or removal action may be proposed. If the employee's contribution increases to an acceptable level and is again determined to deteriorate in any factor within two years from the beginning of the opportunity period, actions may be initiated to effect reduction in pay or removal with no additional opportunity to improve. If an employee has contributed acceptably for two years from the beginning of an opportunity period, and the employee's overall contribution once again declines to an inadequate level, the employee will be afforded an additional opportunity to demonstrate adequate contribution before it is determined whether or not to propose a reduction in pay or removal.

An employee whose reduction in pay or removal is proposed is entitled to a 30-day advance notice of the proposed action that identifies specific instances of inadequate contribution by the employee on which the action is based. The employee will be afforded a reasonable time to answer the notice of proposed action orally and/or in writing.

A decision to reduce pay or remove an employee for inadequate contribution may be based only on those instances of inadequate contribution that occurred during the two-year period ending on the date of issuance of the proposed action. The employee will be issued written notice at or before the time the action will be effective. Such notice will specify the instances of inadequate contribution by the employee on which the action is based and will inform the employee of any applicable appeal or grievance rights.

All relevant documentation concerning a reduction in pay or removal that is based on inadequate contribution will be preserved and made available for review by the affected employee or a designated representative. At a minimum, the records will consist of a copy of the notice of proposed action; the written answer of the employee or a summary when the employee makes an oral reply; and the written notice of decision and the reasons thereof, along with any supporting material including documentation regarding the opportunity afforded the employee to demonstrate adequate contribution.

8. Base Pay Increases and Bonuses

The payouts made to employees from the pay pool may be a mix of base pay increases and/or one-time bonuses, such that all of the allocated funds are disbursed as intended. To continue to provide performance incentives while also ensuring cost discipline, base pay increases may be limited. Certain employees will not be able to receive the projected base pay increase due to base pay caps. Base pay is capped when an employee reaches the maximum rate of base pay in an assigned pay band. Also, for employees receiving retained rates above the applicable pay band maximum, the entire performance payout will be in the form of a bonus payment.

In addition, a pay pool manager may request approval from the TARDEC Director for use of an Extraordinary Achievement Recognition. Such recognition grants a base pay increase and/or bonus to an employee. The funds available for an Extraordinary Achievement Recognition are separately funded within the constraints of the budget.

9. Awards

To provide additional flexibility in motivating and rewarding individuals and groups, some portion of the award budget will be reserved for special acts and other categories as they occur. Awards may include, but are not limited to, special acts, patents, suggestions, on-the-spot, and time-off. The funds available to be used for traditional 5 U.S.C. awards are separately funded within the constraints of the laboratory's budget.

While not directly linked to the CCAS system, this additional flexibility is important to encourage outstanding accomplishments and innovation in accomplishing the diverse mission of TARDEC. Additionally, to foster and encourage teamwork among its employees, organizations may give group awards. The delegation of awards authority is an internal Army decision and will be considered as such.

10. Reverse Feedback

Employee feedback to supervisors is considered essential for the success of the TARDEC CCAS system. A feedback instrument for subordinates to anonymously evaluate the effectiveness of their supervisors is being developed and shall be implemented as part of the demonstration project. Supervisors and their managers will be provided the results of that feedback in a format that does not identify individual raters or ratings. The data will be aggregated into a summary and used to establish both personal and organizational performance development goals. The use of this type of instrument will help focus attention on desired leadership behaviors, structure the feedback in a constructive manner, and offset the power imbalance that often prevents supervisors from getting useful feedback from their employees.

11. Adverse Actions

Except where specifically waived or modified in this plan, adverse action procedures under 5 CFR part 752 remain unchanged.

12. Grievance of Overall Contribution Score

An employee may grieve the OCS received under the CCAS system. Non-bargaining unit employees, and bargaining unit employees covered by a negotiated grievance procedure that does not permit grievances over performance ratings, must file under administrative grievance procedures. Bargaining unit employees whose negotiated grievance procedures cover performance rating grievances must file under those negotiated procedures. Contribution payout amounts resulting from OCS cannot be grieved.

D. Hiring Authority

1. Qualifications

The qualifications required for placement into a position in a pay band within an occupational family career path will be determined using the OPM Operating Manual for Qualification Standards for GS Positions. Since the pay bands are anchored to the GS grade levels, the minimum qualification requirements for a position will be those corresponding to the lowest GS grade incorporated into that pay band. For example, for a position in the E&S occupational family Pay Band II, individuals must meet the basic requirements for a GS-5 as specified in the OPM Qualification Standard for Professional and Scientific Positions.

Selective factors may be established for a position in accordance with the OPM Operating Manual for Qualification Standards for GS Positions, when determined to be critical to successful job performance. These factors will become part of the minimum requirements for the position, and applicants must meet them in order to be eligible. If used, selective factors will be stated as part of the qualification requirements in vacancy announcements and recruiting bulletins.

2. Delegated Examining

Competitive service positions will be filled through Merit Staffing, direct-hire authority, Delegated Examining, or other sources. Where delegated to the laboratory level, hiring authority will be exercised in accordance with the requirements of the delegation of authority. The Rule of Three will be eliminated. When there are no more than 15 qualified, eligible applicants and all are either preference eligibles or there are no preference eligibles, all will be immediately referred to the selecting official without rating and ranking. Rating and ranking will be required only when the number of qualified candidates exceeds 15 or there is a mix of preference and non-preference applicants. Statutes and regulations covering veterans' preference will be observed in the selection process and when rating and ranking are required. This project includes the authority to utilize the OPM Administrative Careers With America (ACWA) or successor procedures for occupational series which have been designated as having a testing requirement. This allows for the recruitment of entry level positions covered by the Business and Technical Occupational Family at the DE-II pay band.

3. Distinguished Scholastic Achievement Appointment

This demonstration project establishes a Distinguished Scholastic Achievement Appointment using an alternative examining process which provides the authority to appoint undergraduates and graduates through the doctoral level to professional positions at the equivalent of GS-7 through GS-11, and GS-12 positions.

At the undergraduate level, candidates may be appointed to positions at a base pay level no greater than the equivalent of GS-7, step 10, provided that:

(1) They meet minimum standards for the positions as published in OPM's Operating Manual “Qualification Standards for General Schedule Positions” plus any selective factors stated in the vacancy announcement;

(2) The occupation has a positive education requirement; and

(3) The candidate has a cumulative grade point average (GPA) of 3.5 or better (on a 4.0 scale) in those courses in those fields of study that are specified in the Qualifications Standards for the occupational series.

Appointments may also be made at the equivalent of GS-9 through GS-12 on the basis of graduate education and/or experience for those candidates with a GPA of 3.5 or better (on a scale of 4.0) for graduate level courses in the field of study required for the occupation.

Veterans' preference procedures will apply when selecting candidates under this authority. Preference eligibles who meet the above criteria will be considered ahead of nonpreference eligibles. In making selections, to pass over any preference eligible(s) to select a nonpreference eligible requires approval under current pass-over or objection procedures. Priority must also be given to displaced employees as may be specified in OPM and DoD regulations.

4. Direct Hire Authority for Candidates With Advanced Degrees for Scientific and Engineering Positions

a. Background:

The TARDEC has an urgent need for direct hire authority to appoint qualified candidates possessing an advanced degree to scientific and engineering positions. The market is extremely competitive with industry and academia for the small supply of highly-qualified and security clearable candidates with a Masters Degree or Ph.D. in science or engineering. There are 35,000 scientists and engineers employed in the DoD laboratories; 27% hold Masters Degrees, while 10% are in possession of a Ph.D. The TARDEC employs around 1,427 scientists and engineers; 21% holding Masters Degrees, while 2% percent are in possession of a Ph.D. Over the next five years, the TARDEC plans to hire approximately 500 of the country's best and brightest scientists and engineers (S&Es) just to keep pace with attrition. This number does not include the impact that actions such as Base Realignment and Closure may have on the attrition of S&Es from the TARDEC. Statistics indicate that the available pool of advanced degree, clearable candidates is substantially diminished by the number of non-U.S. citizens granted degrees by U.S. institutions. For instance, in 2006, 20% of Masters Degrees in science and over 35% of Ph.D.s in science were awarded to temporary residents.

It is expected that this hiring authority, together with streamlined recruitment processes, will be very effective in hiring candidates possessing a Masters or Ph.D. and accelerating the hiring process. For instance, under a similar authority found in the NDAA for FY 2009, section 1108, Public Law 110-417, October 28, 2009, one STRL had fifteen Ph.D. selectees in 2009 for the sixteen vacancies for which they were using this hiring authority. Another STRL, using this expedited hiring authority in calendar year 2009, made thirty firm hiring offers in an average of thirteen days from receipt of paper work in the Human Resources Office. Of these thirty selectees, twenty-three possessed Ph.D.s.

b. Definitions:

(1) Scientific and engineering positions are defined as all professional positions in scientific and engineering occupations (with a positive education requirement) utilized by the laboratory.

(2) An advanced degree is a Master's or higher degree from an accredited college or university in a field of scientific or engineering study directly related to the duties of the position to be filled.

(3) Qualified candidates are defined as candidates who:

(a) Meet the minimum standards for the position as published in OPM's operating manual, “Qualification Standards for General Schedule Positions,” or the laboratory's demonstration project qualification standards specific to the position to be filled;

(b) Possess an advanced degree; and

(c) Meet any selective factors.

(4) “Employee” is defined by section 2105 of title 5, U.S.C.

c. Provisions:

(1) Use of this appointing authority must comply with merit system principles when recruiting and appointing candidates with advanced degrees to covered occupations.

(2) Qualified candidates possessing an advanced degree may be appointed without regard to the provisions of subchapter 1 of chapter 33 of title 5, United States Code, other than sections 3303, 3321, and 3328 of such title.

(3) The hiring threshold for this authority shall be consistent with DoD policy and legislative language as expressed in any National Defense Authorization Act addressing such.

(4) Positions and candidates must be counted on a full-time equivalent basis.

(5) Science and engineering positions that are filled as of the close of the fiscal year are those positions encumbered on the last day of the fiscal year.

(6) When completing the personnel action, the following will be given as the authority for the Career-Conditional, Career, Term, Temporary, or special demonstration project appointment authority: Section 1108, NDAA for FY 09.

(7) Evaluation of this hiring authority will include information and data on its use, such as numerical limitation, hires made, how many veterans hired, declinations, difficulties encountered, and/or recognized efficiencies.

5. Legal Authority

For actions taken under the auspices of this demonstration project, the legal authorities, Public Law 103-337, as amended, and Public Law 111-84 will be used. For all other actions, the nature of action codes and legal authority codes prescribed by OPM, DoD, or DA will continue to be used.

6. Modified Term Appointments

TARDEC conducts a variety of projects that range from three to six years. The current four-year limitation on term appointments for competitive service employees often forces the termination of these employees prior to completion of projects they were hired to support. This disrupts the research and development process and affects the organization's ability to accomplish the mission and serve its customers.

TARDEC will continue to have career and career-conditional appointments and temporary appointments not-to-exceed one year. These appointments will use existing authorities and entitlements. Under the demonstration project, TARDEC will have the added authority to hire individuals under a modified term appointment. These appointments will be used to fill positions for a period of more than one year, but not more than a total of five years when the need for an employee's services is not permanent. The modified term appointments differ from term employment as described in 5 CFR 316 in that they may be made for a period not to exceed five, rather than four years. The TARDEC Director is authorized to extend a term appointment one additional year.

Employees hired under the modified term appointment authority are in a non-permanent status, but may be eligible for non-competitive conversion to career or career-conditional appointments. To be converted, the employee must:

a. Have been selected for the term position under competitive procedures, with the announcement specifically stating that the individual(s) selected for the term position may be eligible for conversion to a career or career-conditional appointment at a later date;

b. Have served two years of continuous service in the term position; and

c. Have not been placed on a CIP.

Employees serving under term appointments at the time of conversion to the demonstration project will be converted to the new modified term appointments provided they were hired for their current positions under competitive procedures. These employees will be eligible for conversion to career-conditional or career appointments if they:

(1) Have served two years of continuous service in the term position;

(2) Are selected under merit promotion procedures for the permanent position; and

(3) Have not been placed on a CIP.

Time served in term positions prior to conversion to the modified term appointment is creditable, provided the service was continuous.

7. Initial Probationary Period

The initial probationary period will not be less than one year and will not exceed three years for all newly hired employees as defined in 5 CFR 315. The specific probationary period will be defined and controlled by the TARDEC Director. The purpose of the probationary period is to allow supervisors an adequate period of time to fully evaluate an employee's ability to complete a cycle of work and to fully assess an employee's contribution and conduct. All other features of the current probationary period are retained including the potential to remove an employee without providing the full substantive and procedural rights afforded a non-probationary employee. These provisions only apply to those employees who have been appointed under the authority of this demonstration project.

8. Termination of Initial Probationary Period Employees

The probationary or trial period is designed to give supervisors the opportunity to assess how well an employee can perform the duties of a job and if the employee is otherwise well suited for the position. Probationary employees may be terminated for any lawful reason including, but not limited to, failure to demonstrate proper conduct, technical competency, and/or acceptable contribution for continued employment. They may also be terminated for conditions arising before employment. When a supervisor decides to terminate an employee during the probationary period, the supervisor shall terminate the employee's services by written notification stating the reasons for termination and the effective date of the action. The information in the notice shall, at a minimum, outline the supervisor's reasons for termination.

9. Supervisory Probationary Periods

New supervisors, that is, those who have not previously completed a supervisory probationary period, will be required to complete a one-year probationary period for the initial appointment to a supervisory position. An additional supervisory probationary period of one year may be required when an employee is officially assigned to a different supervisory position that constitutes a major change in supervisory responsibilities from any previously held supervisory position. If, during a supervisory probationary period, the decision is made to return the employee to a non-supervisory position for reasons related to supervisory performance, the employee will be returned to a comparable position of no lower base pay than the position from which promoted or reassigned.

10. Voluntary Emeritus Corps

Under the demonstration project, the Director will have the authority to offer retired or separated employees voluntary positions. The Director may redelegate this authority. Voluntary Emeritus Corps assignments are not considered employment by the Federal government (except for purposes of injury compensation). Thus, such assignments do not affect an employee's entitlement to buyouts or severance payments based on an earlier separation from Federal service.

The Voluntary Emeritus Corps will ensure continued quality services while reducing the overall salary line by allowing higher paid employees to accept retirement incentives with the opportunity to retain a presence in the TARDEC community. The program will be beneficial during manpower reductions, as employees accept retirement and return to provide a continuing source of corporate knowledge and valuable on-the-job training or mentoring to less experienced employees.

To be accepted into the Volunteer Emeritus Corps, a volunteer must be recommended by a TARDEC manager to the TARDEC Director or delegated authority. Not everyone who applies is entitled to an emeritus position. The responsible official will document acceptance or rejection of the applicant. For acceptance, documentation must be retained throughout the assignment. For rejection, documentation will be maintained for two years.

To ensure success and encourage participation, the volunteer's Federal retirement pay (whether military or civilian) will not be affected while serving in a voluntary capacity. Retired or separated Federal employees may accept an emeritus position without a break or mandatory waiting period.

Voluntary Emeritus Corps volunteers will not be permitted to monitor contracts on behalf of the Government or to participate on any contracts or solicitations where a conflict of interest exists. The volunteers may be required to submit a financial disclosure form annually. The same rules that currently apply to source selection members will apply to volunteers.

An agreement will be established among the volunteer, the responsible official, and the Civilian Personnel Advisory Center. The agreement must be finalized before the assumption of duties and shall include the following:

a. Statement that the voluntary assignment does not constitute an appointment in the Civil Service, is without compensation, and the volunteer waives any claims against the Government based on the voluntary assignment;

b. Statement that the volunteer will be considered a Federal employee only for the purpose of injury compensation;

c. Volunteer's work schedule;

d. Length of agreement (defined by length of project or time defined by weeks, months, or years);

e. Support provided by the organization (travel, administrative support, office space, and supplies);

f. Statement of duties;

g. Statement providing that no additional time will be added to a volunteer's service credit for such purposes as retirement, severance pay, and leave as a result of being a volunteer;

h. Provision allowing either party to void the agreement with two working days written notice;

i. Level of security access required by the volunteer (any security clearance required by the position will be managed by the employing organization);

j. Provision that any publication(s) resulting from his/her work will be submitted to the Director for review and approval;

k. Statement that the volunteer accepts accountability for loss or damage to Government property occasioned by his/her negligence or willful action;

l. Statement that his/her activities on the premises will conform to the regulations and requirements of the organization;

m. Statement that the volunteer will not release any sensitive or proprietary information without the written approval of the employing organization and further agrees to execute additional non-disclosure agreements as appropriate, if required, by the nature of the anticipated services;

n. Statement that the volunteer will not disclose any inventions made in the course of work performed at the TARDEC. The Director has the option to obtain title to any such invention on behalf of the U.S. Government. Should the Director elect not to take title, the TARDEC shall at a minimum retain a non-exclusive, irrevocable, paid-up, royalty-free license to practice or have practiced the invention worldwide on behalf of the U.S. Government; and

o. Statement that he/she agrees to comply with designated mandatory training.

Exceptions to the provisions in this procedure may be granted by the Director on a case-by-case basis.

E. Internal Placement

1. Promotion

A promotion is the movement of an employee to a higher pay band in the same occupational family career path or to another pay band in a different occupational family career path, wherein the pay band in the new occupational family has a higher maximum base pay than the band from which the employee is moving. Positions with known promotion potential to a higher band within an occupational family career path will be identified when they are filled. Movement from one occupational family to another will depend upon individual competencies, qualifications, and the needs of the organization. Supervisors may consider promoting employees at any time, since promotions are not tied to the CCAS system. Progression within a pay band is based upon contribution/performance base pay increases; as such, these actions are not considered promotions and are not subject to the provisions of this section. Except as specified below, promotions will be processed under competitive procedures in accordance with Merit System Principles and requirements of the local merit promotion plan.

2. Reassignment

A reassignment is the movement of an employee from one position to a different position within the same occupational family and pay band or to another occupational family and pay band wherein the pay band in the new family has the same maximum base pay. The employee must meet the qualifications requirements for the occupational family and pay band.

Employees may be eligible for an increase to base salary upon temporary or permanent reassignment as described in this section. A decision to increase an employee's pay under this section will be based upon business rules that will define criteria necessary to justify a base pay increase. Examples of criteria may include, but are not limited to, one or more of the following factors:

a. A determination that an employee's responsibilities will significantly increase;

b. Critical mission or business requirements;

c. Need to advance multi-functional competencies;

d. Labor market conditions, e.g., availability of candidates and labor market rates;

e. Reassignment from a nonsupervisory to a supervisory position;

f. Employee's past and anticipated performance and contribution;

g. Physical location of position;

h. Specialized skills, knowledge, or education possessed by the employee in relation to those required by the position; and

i. Salaries of other employees in the organization performing similar work.

When an employee is reassigned within his/her current pay band or to a comparable pay band, an authorized management official will set base pay at an amount no less than the employee's current base pay and may increase the employee's current base pay by up to 6 percent. If the employee's current base pay exceeds the maximum of the new pay band, no increase is provided, and the employee's rate will be set at that maximum rate. There is no limit to the number of times an employee can be reassigned, but local business rules will be established to monitor and control all cases that receive a reassignment base pay change to ensure fairness and consistency across the workforce. Reassignment base pay thresholds may be modified or increased by internal business rules, policies, or procedures as organizational experience dictates.

3. Demotion or Placement in a Lower Pay Band

A demotion is a placement of an employee into a lower pay band within the same occupational family or placement into a pay band in a different occupational family with a lower maximum base pay. Demotions may be for cause (performance or conduct) or for reasons other than cause (e.g., erosion of duties, reclassification of duties to a lower pay band, application under competitive announcements, at the employee's request, or placement actions resulting from RIF procedures).

4. Simplified Assignment Process

Today's environment of downsizing and workforce fluctuations mandates that the organization have maximum flexibility to assign duties and responsibilities to individuals. Pay banding can be used to address this need, as it enables the organization to have maximum flexibility to assign an employee with either no change or an increase in base pay within broad descriptions consistent with the needs of the organization and the individual's qualifications and level. Subsequent assignments to projects, tasks, or functions anywhere within the organization requiring the same level, area of expertise, and qualifications would not constitute an assignment outside the scope or coverage of the current position description. For instance, a technical expert could be assigned to any project, task, or function requiring similar technical expertise. Likewise, a manager could be assigned to manage any similar function or organization consistent with that individual's qualifications. This flexibility allows broader latitude in assignments and further streamlines the administrative process and system while providing management the option of granting additional base pay in recognition of more complex work or broader scope of responsibility.

5. Details

The temporary assignment of an employee to a different demonstration project position for a specific period when the employee is expected to return to his or her regular duties at the end of an assignment. (An employee who is on detail is considered for pay and strength purposes to be permanently occupying his or her regular position.)

6. Exceptions to Competitive Procedures

The following actions are excepted from competitive procedures:

a. Re-promotion to a position which is in the same pay band or GS equivalent and occupational family as the employee previously held on a permanent basis within the competitive service.

b. Promotion, reassignment, demotion, transfer, or reinstatement to a position having promotion potential no greater than the potential of a position an employee currently holds or previously held on a permanent basis in the competitive service.

c. A position change permitted by reduction-in-force procedures.

d. Promotion without current competition when the employee was appointed through competitive procedures to a position with a documented career ladder.

e. A temporary promotion or detail to a position in a higher pay band of 180 days or less.

f. A promotion due to the reclassification of positions based on accretion (addition) of duties.

g. A promotion resulting from the correction of an initial classification error or the issuance of a new classification standard.

h. Consideration of a candidate who did not receive proper consideration in a competitive promotion action.

i. Impact of person in the job and Factor IV process (application of the Research Grade Evaluation Guide, Equipment Development Grade Evaluation Guide, Part III, or similar guides) promotions.

F. Pay Administration

1. General

Pay administration policies will be established by the Personnel Management Board. These policies will be exempt from Army Regulations or RDECOM local pay fixing policies, but will conform to basic governmental pay fixing policy. Employees whose performance is acceptable may be eligible for the full annual general pay increase and the full locality pay. TARDEC may make full use of recruitment, retention, and relocation payments as provided for by OPM under 5 U.S.C. and 5 CFR pay flexibilities unless waived by this FRN.

2. Pay and Compensation Ceilings

An employee's total monetary compensation paid in a calendar year may not exceed the rate of pay for Level I of the Executive Schedule to be consistent with 5 CFR 530.201 and consistent with 5 U.S.C. 5307 and 5 CFR 530, subpart B. In addition, each pay band will have its own base pay ceiling. Base pay rates for the various pay bands will be linked to the OCS of the CCAS system. Other than where a retained rate applies, base pay will be limited to the maximum base pay payable for each pay band.

3. Pay Setting for Appointment

Upon initial appointment, the individual's base pay may be set at the lowest base pay in the pay band or anywhere within the pay band level consistent with the special qualifications of the individual and the unique requirements of the position. These special qualifications may be in the form of education, training, experience, or any combination thereof that is pertinent to the position in which the employee is being placed. Guidance on pay setting for new hires will be established by the Personnel Management Board.

4. Highest Previous Rate (HPR)

HPR will be considered in placement actions authorized under rules similar to the HPR rules in 5 CFR 531.221. Use of HPR will be at the supervisor's discretion; but if used, HPR is subject to policies established by the Personnel Management Board.

5. Pay Setting for Promotion

The minimum base pay increase upon promotion to a higher pay band will be six percent or the minimum base pay rate of the new pay band, whichever is greater. In no case will the increase exceed the maximum base pay for the pay band. The maximum base pay increase for promotion may be exceeded when necessary to allow for the minimum base pay increase. When a temporary promotion is terminated, the employee's pay entitlements will be re-determined based on the employee's position of record, with appropriate adjustments to reflect pay events during the temporary promotion, subject to the specific policies and rules established by the Personnel Management Board. In no case may those adjustments increase the base pay for the position of record beyond the applicable pay range maximum base pay rate.

6. Pay Setting for Reassignment

A reassignment may be effected without a change in base pay. However, a base pay increase may be granted where a reassignment significantly increases the complexity, responsibility, and authority or for other compelling reasons. Such an increase is subject to the specific guidelines established by the Personnel Management Board.

7. Pay Setting for Demotion or Placement in a Lower Pay Band

Employees demoted for cause (performance or conduct) are not entitled to pay retention and will receive a minimum of a five percent decrease in base pay. Employees demoted for reasons other than cause (e.g., erosion of duties, reclassification of duties to a lower pay band, application under competitive announcements or at the employee's request, or placement actions resulting from RIF procedures) may be entitled to pay retention in accordance with the provisions of 5 U.S.C. 5363 and 5 CFR 536, except as waived or modified in section IX of this plan.

Employees who are on a CIP at the time base pay determinations are made do not receive contribution payouts or the general pay increase. This action may result in a base pay that is identified in a lower pay band. This occurs because the minimum rate of base pay in a pay band increases as the result of the general pay increase (5 U.S.C. 5303).

8. Supervisory and Team Leader Pay Adjustments

a. Supervisory and team leader pay adjustments may be approved by the TARDEC Director based on the recommendation of the Personnel Management Board to compensate employees with supervisory or team leader responsibilities. Only employees in supervisory or team leader positions as defined by the OPM GS Supervisory Guide or GS Leader Grade Evaluation Guide may be considered for the pay adjustment. These pay adjustments are funded separately from performance pay pools. These pay adjustments are increases to base pay, ranging up to ten percent of that pay rate for supervisors and up to five percent of that pay rate for team leaders. Pay adjustments are subject to the constraint that the adjustment may not cause the employee's base pay to exceed the pay band maximum base pay. Criteria to be considered in determining the base pay increase percentage include:

(1) Needs of the organization to attract, retain, and motivate high quality supervisors/team leaders;

(2) Budgetary constraints;

(3) Years and quality of related experience;

(4) Relevant training;

(5) Performance appraisals and experience as a supervisor/team leader;

(6) Organizational level of position; and

(7) Impact on the organization.

a. The pay adjustment will not apply to employees in Pay Band V of the E&S occupational family.

b. After the date of conversion into the demonstration project, a pay adjustment may be considered under the following conditions:

(1) New hires into supervisory/team leader positions will have their initial rate of base pay set at the supervisor's discretion within the pay range of the applicable pay band. This rate of pay may include a pay adjustment determined by using the ranges and criteria outlined above.

(2) An employee selected for a supervisory/team leader position that is within the employee's current pay band may also be considered for a base pay adjustment. If a supervisor/team leader is already authorized a base pay adjustment and is subsequently selected for another supervisor/team leader position within the same pay band, then the base pay adjustment will be re-determined.

(3) Existing Supervisors/Team Leaders will be converted at their existing base rate of pay and may be eligible for a base pay adjustment upon review of the Personnel Management Board following the conversion.

c. The supervisor/team leader pay adjustment will be reviewed annually, with possible increases or decreases based on the appraisal scores for the performance element, Team/Project Leadership or Supervision/EEO. The initial dollar amount of a base pay adjustment will be removed when the employee voluntarily leaves the position. The cancellation of the adjustment under these circumstances is not an adverse action and is not subject to appeal. If an employee is involuntarily removed from a non-probationary supervisory/team leader position for unacceptable performance or conduct, the base pay adjustment will be removed under adverse action procedures. However, if an employee is involuntarily removed from a non-probationary supervisory/team leader position for conditions other than unacceptable performance or conduct, then pay retention will follow current law and regulations at 5 U.S.C. 5362 and 5363 and 5 CFR part 536, except as waived or modified in section IX.

9. Supervisory and Team Leader Pay Differentials

Supervisory and team leader pay differentials may be used by the TARDEC Director to provide an incentive and to reward supervisors and team leaders as defined by the OPM GS Supervisory Guide and GS Leader Grade Evaluation Guide. Pay differentials are not funded from performance pay pools. A pay differential is a cash incentive that may range up to ten percent of base pay for supervisors and up to five percent of base pay for team leaders. It is paid on a pay-period basis for a specified period of time not to exceed (NTE) one year and is not included as part of the base pay. Criteria to be considered in determining the amount of the pay differential are the same as those identified for Supervisory and Team Leader Pay Adjustments. The pay differential will not apply to employees in Pay Band V of the E&S occupational family.

The pay differential may be considered, either during conversion into or after initiation of the demonstration project, if the supervisor/team leader has subordinate employees in the same pay band. The differential must be terminated if the employee is removed from a supervisory/team leader position, regardless of cause.

After initiation of the demonstration project, all personnel actions involving a supervisory or team leader differential will require a statement signed by the employee acknowledging that the differential may be terminated or reduced at the discretion of the TARDEC Director. The termination or reduction of the differential is not an adverse action and is not subject to appeal.

10. Staffing Supplements

Employees assigned to occupational categories and geographic areas covered by GS special rates will be entitled to a staffing supplement if the maximum adjusted base pay for the banded GS grades (i.e., the maximum GS locality rate) to which assigned is a special rate that exceeds the maximum GS locality rate for the banded grades. The staffing supplement is added to the base pay, much like locality rates are added to base pay. For employees being converted into the demonstration project, total pay immediately after conversion will be the same as immediately before (excluding the impact of any WGI buy-in for GS employees), but a portion of the total pay will be in the form of a staffing supplement. Adverse action and pay retention provisions will not apply to the conversion process, as there will be no loss or decrease in total pay.

The staffing supplement is calculated as follows. Upon conversion, the demonstration base rate will be established by dividing the employee's former GS basic pay (including any locality pay or special salary rate) or, for former NSPS employees, the NSPS adjusted salary (including any local market supplement) by the staffing factor. The staffing factor will be determined by dividing the maximum special rate for the banded grades by the GS unadjusted rate corresponding to that special rate (step 10 of the GS rate for the same grade as the special rate). The employee's demonstration staffing supplement is derived by multiplying the demonstration base pay rate by the staffing factor minus one. Therefore, the employee's final demonstration special staffing rate equals the demonstration base pay rate plus the staffing supplement. This amount will equal the employee's former GS or NSPS adjusted base pay rate. Simplified, the formula is this:

If an employee is in a band where the maximum GS or NSPS adjusted base pay rate for the banded grades is a locality rate, when the employee enters into the demonstration project, the demonstration base pay rate is derived by dividing the employee's former GS adjusted base pay rate (the higher of locality rate or special rate) by the applicable locality pay factor. The employee's demonstration locality-adjusted base pay rate will equal the employee's former GS adjusted base pay rate in accordance with the above provisions using the new special salary rate. Any GS or special rate schedule adjustment will require computing the staffing supplement again. Employees receiving a staffing supplement remain entitled to an underlying locality rate, which may over time supersede the need for a staffing supplement. If OPM discontinues or decreases a special rate schedule, pay retention provisions will be applied. Upon geographic movement, an employee who receives the staffing supplement will have the supplement recomputed. Any resulting reduction in pay will not be considered an adverse action or a basis for pay retention.

An established base pay rate plus the staffing supplement will be considered adjusted base pay for the same purposes as a locality rate under 5 CFR 531.610, i.e., for purposes of retirement, life insurance, premium pay, severance pay, and advances in pay. It will also be used to compute worker's compensation payments and lump-sum payments for accrued and accumulated annual leave.

If an employee is in an occupational category covered by a new or modified special salary rate table, and the pay band to which assigned is not entitled to a staffing supplement, then the employee's adjusted base pay may be reviewed and adjusted to accommodate the rate increase provided by the special salary rate table. The review may result in a one-time base pay increase if the employee's adjusted base pay equals or is less than the highest special salary rate grade and step that exceeds the comparable locality grade and step. Demonstration project operating procedures will identify the officials responsible to make such reviews and determinations.

11. Pay Retention Within the Demonstration Project

For purposes of actions within the TARDEC demonstration project that provide entitlement to pay retention the standard provisions of pay retention (5 U.S.C. 5362 and 5363 and 5 CFR 536) shall apply to employees after conversion to the demonstration project, except as waived or modified in Section IX of this plan. Wherever the term “grade” is used in the law or regulation the term “pay band” will be substituted. The TARDEC Director may also grant pay retention to employees who meet general eligibility requirements, but do not have specific entitlement by law, provided they are not specifically excluded.

G. Employee Development

1. Expanded Developmental Opportunity Program

The Expanded Developmental Opportunity Program will be available to all demonstration project employees. Expanded developmental opportunities complement existing developmental opportunities such as long-term training; rotational job assignments; developmental assignments to Army Materiel Command/Army/DoD; and self-directed study via correspondence courses, local colleges, and universities. Each developmental opportunity must result in a product, service, report, or study that will benefit the TARDEC or customer organization as well as increase the employee's individual effectiveness. The developmental opportunity period will not result in loss of (or reduction) in base pay, leave to which the employee is otherwise entitled, or credit for service time. The positions of employees on expanded developmental opportunities may be back-filled (i.e., with temporarily assigned, detailed or promoted employees or with term employees). However, that position or its equivalent must be made available to the employee upon return from the developmental period. The Personnel Management Board will provide written guidance for employees on application procedures and develop a process that will be used to review and evaluate applicants for developmental opportunities.

a. Sabbaticals. The TARDEC Director has the authority to grant paid or unpaid sabbaticals to all career employees. The purpose of a sabbatical will be to permit an employee to engage in study or uncompensated work experience that will benefit the organization and contribute to the employee's development and effectiveness. Each sabbatical must result in a product, service, report, or study that will benefit the TARDEC mission as well as increase the employee's individual effectiveness. Various learning or developmental experiences may be considered, such as advanced academic teaching; research; self-directed or guided study; and on-the-job work experience.

One paid sabbatical of up to twelve months in duration or one unpaid sabbatical of up to six months in a calendar year may be granted to an employee in any seven-year period. Employees will be eligible to request a sabbatical after completion of seven years of Federal service. Employees approved for a paid sabbatical must sign a service obligation agreement to continue in service in the TARDEC for a period three times the length of the sabbatical. If an employee voluntarily leaves TARDEC before the service obligation is completed, he/she is liable for repayment of expenses incurred by TARDEC that are associated with training during the sabbatical. Expenses do not include salary costs. The TARDEC Director has the authority to waive this requirement. Criteria for such waivers will be addressed in the operating procedures.

Specific procedures will be developed for processing sabbatical applications upon implementation of the demonstration project.

b. Critical Skills Training (Training for Degrees). The TARDEC Director has the authority to approve academic degree training consistent with 5 U.S.C. 4107. Training is an essential component of an organization that requires continuous acquisition of advanced and specialized knowledge. Degree training is also a critical tool for recruiting and retaining employees with or requiring critical skills. Academic degree training will ensure continuous acquisition of advanced specialized knowledge essential to the organization, and enhance our ability to recruit and retain personnel critical to the present and future requirements of the organization. Degree or certificate payment may not be authorized where it would result in a tax liability for the employee without the employee's express and written consent. Any variance from this policy must be rigorously determined and documented. Guidelines will be developed to ensure competitive approval of degree or certificate payment and that such decisions are fully documented. Employees approved for degree training must sign a service obligation agreement to continue in service in TARDEC for a period three times the length of the training period. If an employee voluntarily leaves the TARDEC before the service obligation is completed, he/she is liable for repayment of expenses incurred by TARDEC related to the critical skills training. Expenses do not include salary costs. The TARDEC Director has the authority to waive this requirement. Criteria for such waivers will be addressed in the operating procedures.

c. Student Career Experience Program (SCEP) Service Agreement. The extended repayment period also applies to employees under the SCEP who have received tuition assistance. They will be required to sign a service agreement up to three times the length of the academic training period or periods (semesters, trimesters, or quarters).

H. Reduction-in-Force (RIF) Procedures

The competitive area may be determined by occupational family, lines of business, product lines, organizational units, funding lines, occupational series, functional area, and/or geographical location, or a combination of these elements, and must include all Demonstration Project employees within the defined competitive area. The RIF system has a single round of competition to replace the current GS two-round process. Once the position to be abolished has been identified, the incumbent of that position may displace another employee when the incumbent has a higher retention standing and is fully qualified for the position occupied by the employee with a lower standing.

Retention standing is based on tenure, veterans' preference, and length of service augmented by performance. Modified term appointment and temporary appointment employees are in Tenure Group 0, and are not eligible to complete within a RIF. RIF procedures are not required when separating these employees when their appointments expire.

Displacement is limited to one pay band level below the employee's present pay band level within the occupational family career path. Pay band level I employees can displace within their current pay band level. A veterans' preference eligible employee with a compensable service connected disability of 30 percent or more may displace up to two pay band levels below the employee's present level within the career path. A pay band level I preference eligible employee (with a compensable service connected disability of 30 percent or more) can displace within their current pay band. The same “undue disruption” standard currently utilized, serves as the criteria to determine if an employee is fully qualified.

The additional RIF service credit for performance shall be based on the last three OCS scores and will be applied as follows:

a. 20 years of credit for each year the OCS is equal to or greater than 94 percent of the expected OCS.

b. 16 years of credit for each year the OCS is less than 94 percent but greater than 92 percent of the expected OCS.

c. 12 years of credit for each year the OCS is less than 92 percent but greater than 90 percent of the expected OCS.

d. Zero (0) year of credit for each year the employees OCS is less than 90 percent of the expected OCS.

Note 1: Expected OCS is the OCS that corresponds to the employee's base pay at the time of rating.

An employee whose current overall contribution score places him/her in the area above the upper rail and on a CIP, any time during the rating cycle, may only displace an employee who is also above the upper rail and also on a CIP during that same period. The displaced individual may similarly displace another employee on a CIP. If/When there is no position in which an employee can be placed by this process or assigned to a vacant position, that employee will be separated. If an employee has not been rated under the demonstration project their rating will be considered acceptable and they will be given the full 21 years of performance credit. After completion of the first or second rating cycle the total years of service will be prorated based on ratings received to date.

IV. Implementation Training

A. Critical to the success of the demonstration project is the training developed to promote understanding of the broad concepts and finer details needed to implement and successfully execute this project. New pay banding, job classification, and performance management systems all contribute to significant cultural change to the organization. Training will be tailored to address employee concerns and to encourage comprehensive understanding of the demonstration project. Training will be required both prior to implementation and at various times during the life of the demonstration project.

B. A training program will begin prior to implementation and will include modules tailored for employees, supervisors, senior managers, and administrative staff. Typical modules are:

1. An overview of the demonstration project personnel system;

2. How employees are converted into and out of the system;

3. Pay banding;

4. The CCAS system;

5. Defining contribution goals;

6. How to assign weights;

7. Assessing performance—giving feedback;

8. New position descriptions; and

9. Demonstration project administration and formal evaluation.

C. Various types of training are being considered, including videos, on-line tutorials, and train-the-trainer concepts.

V. Conversion Into the Demonstration Project

A. Conversion From NSPS to the Demonstration Project

1. Placement into Demonstration Project Occupational Families, Career Paths, Pay Plans, and Pay Bands

The employee's NSPS occupational series, pay plan, pay band, and supervisory code will be considered upon converting into the demonstration project as follows:

a. Determine the appropriate demonstration project pay plan. Employees will be converted into an occupational family career path pay plan based on the occupational series of their position. If there is a separate pay plan for supervisors, conversion to that pay plan will be without regard to the occupational series. In cases where the employee is assigned to a NSPS-unique occupational series, a corresponding OPM occupational series must be identified using OPM GS classification standards and guidance to determine the proper demonstration project pay plan.

b. Determine the appropriate demonstration project pay band. The appropriate pay band will be determined by establishing the corresponding GS grade for the employee's NSPS position using OPM GS classification standards and guidance. Once the GS grade has been determined, the employee's position will be placed in the appropriate demonstration project pay band in the occupational family career path. In cases where a GS grade is encompassed in more than one pay band of a career path, a careful review will be required using demonstration project classification criteria to determine the appropriate pay band in which to place the position.

2. Setting Pay Upon Conversion to the Demonstration Project

a. Determine the appropriate base salary. Conversion from NSPS into the demonstration project will be accomplished with full employee pay protection. Adverse action provisions will not apply to the conversion action. In accordance with section 1113(c)(1) of NDAA 2010, which prohibits a loss of or decrease in pay upon transition from NSPS, employees converting to the demonstration project will retain the adjusted salary (as defined in 5 CFR 9901.304) from their NSPS permanent or temporary position at the time the position converts. Upon conversion, the retained NSPS adjusted salary may not exceed Level IV of the Executive Schedule plus 5 percent. If the employee's base pay exceeds the maximum rate for his or her assigned demonstration project pay band, the employee will be placed on indefinite pay retention until an event, as described in 5 CFR 536.308, results in a loss of eligibility for or termination of pay retention. Increases to the retained rate after conversion will be in accordance with applicable regulations; however, for any NSPS employee whose retained rate exceeds Executive Level IV upon conversion, any adjustment to the retained rate in accordance with applicable pay retention regulations may not cause the employee's adjusted pay to exceed Executive Level IV plus 5 percent.

b. Employees Previously Covered by an NSPS Targeted Local Market Supplement (TLMS)

Employees who were covered by an NSPS TLMS prior to conversion to the demonstration project will no longer be covered by a TLMS. Instead they may receive a locality or similar supplement (e.g., a staffing supplement), whichever is greater, or pay retention, if applicable. The adjusted base pay upon conversion will not change.

c. Other Pay. Once converted, employees may receive other adjustments and/or differentials, as applicable, as described in this Federal Register notice or an internal operating instruction.

3. Fair Labor Standards Act (FLSA) Status

Since FLSA provisions were not waived under NSPS and duties do not change upon conversion to the demonstration project, the FLSA status determination will remain the same upon conversion. Employees will be converted to the demonstration project with the same FLSA status they had under NSPS.

4. Transition Equity

During the first 12 months following conversion to the demonstration project, management may approve certain adjustments within the pay band for pay equity reasons stemming from conversion. For example, if an employee would have been otherwise promoted but demonstration project pay band placement no longer provides a promotion opportunity, a pay equity adjustment may be authorized provided the adjustment does not cause the employee's base pay to exceed the maximum rate of his or her assigned pay band and the employee's performance warrants an adjustment. The decision to grant a pay equity adjustment is at the sole discretion of TARDEC management and is not subject to employee appeal procedures.

During the first 12 months following conversion, management may approve an adjustment of not more than 10 percent, provided the adjustment does not cause the employee's base pay to exceed the maximum rate of his or her assigned pay band and the employee's performance warrants an adjustment, to mitigate base pay inequities that may be caused by artifacts of the process of conversion into STRL pay bands. For instance, inappropriate “leap-frogging” of more senior employees by more junior employees when the inversion of compensation levels are not warranted by performance or mission accomplishment outcomes.

5. Pay Band Retention

Employees converting from NSPS to the demonstration project will not be granted pay band retention based on the pay band formerly assigned to their NSPS position.

6. Converting Employees on NSPS Term and Temporary Appointments

a. Employees serving under term appointments at the time of conversion to the demonstration project will be converted to modified term appointments provided they were hired for their current positions under competitive procedures. These employees will be eligible for conversion to career or career-conditional appointments in the competitive service provided they:

(1) Have served two years of continuous service in the term position;

(2) Were selected for the term position under competitive procedures; and

(3) Are performing at a satisfactory level.

Converted term employees who do not meet these criteria may continue on their term appointment up to the not-to-exceed date established under NSPS. Extensions of term appointments after conversion may be granted in accordance with 5 CFR part 316, subpart D.

b. Employees serving under temporary appointments under NSPS when their organization converts to the demonstration project will be converted and may continue on their temporary appointment up to the not-to-exceed date established under NSPS. Extensions of temporary appointments after conversion may be granted in accordance with 5 CFR 213.104 for excepted service employees and 5 CFR part 316, subpart D, for competitive service employees.

7. Probationary Periods

a. Initial probationary period. NSPS employees who have completed an initial probationary period prior to conversion from NSPS will not be required to serve a new or extended initial probationary period. NSPS employees who are serving an initial probationary period upon conversion from NSPS will serve the time remaining on their initial probationary period and may have their initial probationary period extended in accordance with the demonstration project regulation and implementing issuances.

b. Supervisory probationary period. NSPS employees who have completed a supervisory probationary period prior to conversion from NSPS will not be required to serve a new or extended supervisory probationary period while in their current position. NSPS employees who are serving a supervisory probationary period upon conversion from NSPS will serve the time remaining on their supervisory probationary period.

B. Conversion From Non-NSPS System to the Demonstration Project

Conversion from current GS, Acq Demo, or other systems not covered by NSPS into the new pay band system will be accomplished during implementation of the demonstration project (refer Section III.A.2 and Table 1). Initial entry into the demonstration project will be accomplished through a full employee-protection approach that ensures each employee an initial place in the appropriate pay band without loss or decrease of adjusted base pay on conversion. If the employee's base pay exceeds the maximum rate for his or her assigned demonstration project pay band, the employee will be placed on pay retention.

Employees serving under term appointments at the time of the implementation of the demonstration project will be converted to the modified term appointment if all requirements (refer III.D.4 Revisions to Term Appointments) have been satisfied. Position announcements, etc., will not be required for these term appointments.

Employees serving under temporary appointments at the time of the implementation of the demonstration project will be converted to the demonstration project. Employees on temporary appointments at the time of conversion may continue on those appointments up to the not-to-exceed date established under the former system. Extensions of temporary appointments may be granted in accordance with 5 CFR 213.104 for excepted service employees and 5 CFR part 316, subpart D, for competitive service employees.

Employees who are covered by GS special salary rates prior to entering the demonstration project will no longer be considered a special salary rate employee under the demonstration project. Instead, they will receive locality pay or a staffing supplement, whichever is greater. Special conversion rules, as described in III.F.10, describe staffing supplements which replace GS special salary rates and NSPS targeted local market supplements and apply to employees in occupations and geographic locations to which GS special salary rates or NSPS targeted local market supplements would otherwise apply. The adjusted base pay of these employees will not change. Rather, the employees will receive a new adjusted base pay rate computed under the staffing supplement rules in section III.F.10.

Employees who are on temporary promotions at the time of conversion will be converted to a pay band commensurate with the grade of the position to which temporarily promoted. At the conclusion of the temporary promotion, the employee will revert to the grade or pay band that corresponds to the position of record. When a temporary promotion is terminated, pay will be determined based on the position of record, with appropriate adjustments to reflect pay events during the temporary promotion, subject to the specific policies and rules established by the Personnel Management Board. In no case may those adjustments increase the pay for the position of record beyond the applicable pay band maximum base pay. The only exception will be if the original competitive promotion announcement stipulated that the promotion could be made permanent; in these cases, actions to make the temporary promotion permanent will be considered, and if implemented, will be subject to all existing priority placement programs.

During the first 12 months following conversion, employees will receive pay increases for non-competitive promotion equivalents when the grade level of the promotion is encompassed within the same pay band, the employee's performance warrants the promotion, and promotions would have otherwise occurred during that period. For employees who receive an in-level promotion in accordance with this provision at the time of conversion, a prorated step increase equivalent as defined below will not be provided.

For GS employees, rules governing GS within-grade increases (WGIs) will continue in effect until conversion. Adjustments to a GS employee's base pay for WGI equity will be computed as of the effective date of conversion provided the employee is performing at an acceptable level of competence as defined in 5 CFR 531.403. WGI equity will be acknowledged by increasing base pay by a prorated share based upon the number of full weeks an employee has completed toward the next higher step. Payment will equal the value of the employee's next WGI times the proportion of the waiting period completed (weeks completed in waiting period/weeks in the waiting period) at the time of conversion. GS employees at step 10 or receiving retained rates, on the day of implementation will not be eligible for WGI equity adjustments since they are already at or above the top of the step scale. GS employees serving on retained grade will receive WGI equity adjustments provided they are not at step 10 or receiving a retained rate. Acq Demo and NSPS employees do not receive WGI's and will convert into the demonstration project without WGI adjustments.

Employees who enter the demonstration project from other pay systems (DCIPS, Acq Demo, or other STRLs) after initial implementation by lateral transfer, promotion, reassignment, reduction in band, or realignment will be subject to the pay rules that govern conversion out of their respective systems. Pay conversion into Lab Demo will be based upon the job classification of the employee's new position.

C. Movement Out of the Demonstration Project

1. Termination of Coverage Under the TARDEC Demonstration Project Pay Plans

In the event employees' coverage under the TARDEC demonstration project pay plans is terminated, employees move with their demonstration project position to another system applicable to TARDEC employees. The grade of their demonstration project position in the new system will be based upon the position classification criteria of the gaining system. Employees when converted to their positions classified under the new system will be eligible for pay retention under 5 CFR part 536, if applicable.

2. Determining a GS-Equivalent Grade and GS-Equivalent Rate of Pay for Pay Setting Purposes When a TARDEC Employee's Coverage by a Demonstration Project Pay Plan Terminates or the Employee Voluntarily Exits the TARDEC Demonstration Project

a. If a demonstration project employee is moving to a GS or other pay system position, the following procedures will be used to translate the employee's project pay band to a GS-equivalent grade and the employee's project base pay to the GS-equivalent rate of pay for pay setting purposes. The equivalent GS grade and GS rate of pay must be determined before movement out of the demonstration project and any accompanying geographic movement, promotion, or other simultaneous action. For lateral reassignments, the equivalent GS grade and rate will become the employee's converted GS grade and rate after leaving the demonstration project (before any other action). For transfers, promotions, and other actions, the converted GS grade and rate will be used in applying any GS pay administration rules applicable in connection with the employee's movement out of the project (e.g., promotion rules, highest previous rate rules, pay retention rules), as if the GS converted grade and rate were actually in effect immediately before the employee left the demonstration project.

(1) Equivalent GS-Grade-Setting Provisions

An employee in a pay band corresponding to a single GS grade is provided that grade as the GS-equivalent grade. An employee in a pay band corresponding to two or more grades is determined to have a GS-equivalent grade corresponding to one of those grades according to the following rules:

(a) The employee's adjusted base pay under the demonstration project (including any locality payment or staffing supplement) is compared with step 4 rates in the highest applicable GS rate range. For this purpose, a GS rate range includes a rate in:

i. The GS base schedule;

ii. The locality rate schedule for the locality pay area in which the position is located; or

iii. The appropriate special rate schedule for the employee's occupational series, as applicable.

If the series is a two-grade interval series, only odd-numbered grades are considered below GS-11.

(b) If the employee's adjusted base pay under the demonstration project equals or exceeds the applicable step 4 adjusted base pay rate of the highest GS grade in the band, the employee is converted to that grade.

(c) If the employee's adjusted base pay under the demonstration project is lower than the applicable step 4 adjusted base pay rate of the highest grade, the adjusted base pay under the demonstration project is compared with the step 4 adjusted base pay rate of the second highest grade in the employee's pay band. If the employee's adjusted base pay under the demonstration project equals or exceeds the step 4 adjusted base pay rate of the second highest grade, the employee is converted to that grade.

(d) This process is repeated for each successively lower grade in the band until a grade is found in which the employee's adjusted base pay under the demonstration project rate equals or exceeds the applicable step 4 adjusted base pay rate of the grade. The employee is then converted at that grade. If the employee's adjusted base pay is below the step 4 adjusted base pay rate of the lowest grade in the band, the employee is converted to the lowest grade.

(e) Exception: An employee will not be provided a lower grade than the grade held by the employee immediately preceding a conversion, lateral reassignment, or lateral transfer into the project, unless since that time the employee has either undergone a reduction in band or a reduction within the same pay band due to unacceptable performance.

(2) Equivalent GS-Rate-of-Pay-Setting Provisions

An employee's pay within the converted GS grade is set by converting the employee's demonstration project rates of pay to GS rates of pay in accordance with the following rules:

(a) The pay conversion is done before any geographic movement or other pay-related action that coincides with the employee's movement or conversion out of the demonstration project.

(b) An employee's adjusted base pay under the demonstration project (i.e., including any locality payment or staffing supplement) is converted to a GS adjusted base pay rate on the highest applicable GS rate range for the converted GS grade. For this purpose, a GS rate range includes a rate range in:

i. The GS base schedule,

ii. An applicable locality rate schedule, or

iii. An applicable special rate schedule.

(c) If the highest applicable GS rate range is a locality pay rate range, the employee's adjusted base pay under the demonstration project is converted to a GS locality rate of pay. If this rate falls between two steps in the locality-adjusted schedule, the rate must be set at the higher step. The converted GS unadjusted rate of base pay would be the GS base rate corresponding to the converted GS locality rate (i.e., same step position).

(d) If the highest applicable GS rate range is a special rate range, the employee's adjusted base pay under the demonstration project is converted to a special rate. If this rate falls between two steps in the special rate schedule, the rate must be set at the higher step. The converted GS unadjusted rate of base pay will be the GS rate corresponding to the converted special rate (i.e., same step position).

(3) Employees with Pay Retention

If an employee is receiving a retained rate under the demonstration project, the employee's GS-equivalent grade is the highest grade encompassed in his or her pay band level. Demonstration project operating procedures will outline the methodology for determining the GS-equivalent pay rate for an employee retaining a rate under the demonstration project.

3. Within-Grade Increase—Equivalent Increase Determinations

Service under the demonstration project is creditable for within-grade increase purposes upon conversion back to the GS pay system. Performance pay increases (including a zero increase) under the demonstration project are equivalent increases for the purpose of determining the commencement of a within-grade increase waiting period under 5 CFR Section 531.405(b).

D. Personnel Administration

All personnel laws, regulations, and guidelines not waived by this plan will remain in effect. Basic employee rights will be safeguarded and Merit System Principles will be maintained. Servicing CPACs will continue to process personnel-related actions and to provide other appropriate services.

E. Automation

The TARDEC will continue to use the Defense Civilian Personnel Data System (DCPDS) for the processing of personnel-related data. Payroll servicing will continue from the respective payroll offices.

An automated tool will be used to support computation of performance-related pay increases and awards and other personnel processes and systems associated with this project.

F. Experimentation and Revision

Many aspects of a demonstration project are experimental. Modifications may be made from time to time as experience is gained, results are analyzed, and conclusions are reached on how the new system is working. DoDI 1400.37, July 28, 2009, provides instructions for adopting other STRL flexibilities, making minor changes to an existing demonstration project, and requesting new initiatives.

VI. Project Duration

Public Law 103-337 removed any mandatory expiration date for section 342(b) demonstration projects. TARDEC, DA, and DoD will ensure this project is evaluated for the first five years after implementation in accordance with 5 U.S.C. 4703. Modifications to the original evaluation plan or any new evaluation will ensure the project is evaluated for its effectiveness, its impact on mission, and any potential adverse impact on any employee groups. Major changes and modifications to the interventions will be made if warranted by formative evaluation data and will be published in the Federal Register to the extent required. At the five-year point, the demonstration project will be reexamined for permanent implementation, modification and additional testing, or termination of the entire demonstration project.

VII. Evaluation Plan

A. Overview

Chapter 47 of title 5 U.S.C. requires that an evaluation be performed to measure the effectiveness of the demonstration project and its impact on improving public management. A comprehensive evaluation plan for the entire demonstration program, originally covering 24 DoD laboratories, was developed by a joint OPM/DoD Evaluation Committee in 1995. This plan was submitted to the Office of Defense Research and Engineering and was subsequently approved. The main purpose of the evaluation is to determine whether the waivers granted result in a more effective personnel system and improvements in ultimate outcomes (i.e., organizational effectiveness, mission accomplishment, and customer satisfaction).

B. Evaluation Model

1. Appendix D shows an intervention model for the evaluation of the demonstration project. The model is designed to evaluate two levels of organizational performance: Intermediate and ultimate outcomes. The intermediate outcomes are defined as the results from specific personnel system changes and the associated waivers of law and regulation expected to improve human resource (HR) management (i.e., cost, quality, and timeliness). The ultimate outcomes are determined through improved organizational performance, mission accomplishment, and customer satisfaction. Although it is not possible to establish a direct causal link between changes in the HR management system and organizational effectiveness, it is hypothesized that the new HR system will contribute to improved organizational effectiveness.

2. Organizational performance measures established by the organization will be used to evaluate the impact of a new HR system on the ultimate outcomes. The evaluation of the new HR system for any given organization will take into account the influence of three factors on organizational performance: Context, degree of implementation, and support of implementation. The context factor refers to the impact which intervening variables (e.g., downsizing, changes in mission, or the economy) can have on the effectiveness of the program. The degree of implementation considers:

a. The extent to which the HR changes are given a fair trial period;

b. The extent to which the changes are implemented; and

c. The extent to which the changes conform to the HR interventions as planned.

The support of implementation factor accounts for the impact that factors such as training, internal regulations and automated support systems have on the support available for program implementation. The support for program implementation factor can also be affected by the personal characteristics (e.g., attitudes) of individuals who are implementing the program.

3. The degree to which the project is implemented and operated will be tracked to ensure that the evaluation results reflect the project as it was intended. Data will be collected to measure changes in both intermediate and ultimate outcomes, as well as any unintended outcomes, which may happen as a result of any organizational change. In addition, the evaluation will track the impact of the project and its interventions on veterans and other protected groups, the Merit System Principles, and the Prohibited Personnel Practices. Additional measures may be added to the model in the event that changes or modifications are made to the demonstration plan.

4. The intervention model at Appendix D will be used to measure the effectiveness of the personnel system interventions implemented. The intervention model specifies each personnel system change or “intervention” that will be measured and shows:

a. The expected effects of the intervention,

b. The corresponding measures, and

c. The data sources for obtaining the measures.

Although the model makes predictions about the outcomes of specific interventions, causal attributions about the full impact of specific interventions will not always be possible for several reasons. For example, many of the initiatives are expected to interact with each other and contribute to the same outcomes. In addition, the impact of changes in the HR system may be mitigated by context variables (e.g., the job market, legislation, and internal support systems) or support factors (e.g., training, automation support systems).

C. Evaluation

A modified quasi-experimental design will be used for the evaluation of the STRL Personnel Demonstration Program. Because most of the eligible laboratories are participating in the program, a title 5 U.S.C. comparison group will be compiled from the Central Personnel Data File (CPDF). This comparison group will consist of workforce data from Government-wide research organizations in civilian Federal agencies with missions and job series matching those in the DoD laboratories. This comparison group will be used primarily in the analysis of pay banding costs and turnover rates.

D. Method of Data Collection

1. Data from several sources will be used in the evaluation. Information from existing management information systems and from personnel office records will be supplemented with perceptual survey data from employees to assess the effectiveness and perception of the project. The multiple sources of data collection will provide a more complete picture as to how the interventions are working. The information gathered from one source will serve to validate information obtained through another source. In so doing, the confidence of overall findings will be strengthened as the different collection methods substantiate each other.

2. Both quantitative and qualitative data will be used when evaluating outcomes. The following data will be collected:

a. Workforce data;

b. Personnel office data;

c. Employee attitude surveys;

d. Focus group data;

e. Local site historian logs and implementation information;

f. Customer satisfaction surveys; and

g. Core measures of organizational performance.

3. The evaluation effort will consist of two phases, formative and summative evaluation, covering at least 5 years to permit inter- and intra-organizational estimates of effectiveness. The formative evaluation phase will include baseline data collection and analysis, implementation evaluation, and interim assessments. The formal reports and interim assessments will provide information on the accuracy of project operation and current information on impact of the project on veterans and protected groups, Merit System Principles, and Prohibited Personnel Practices. The summative evaluation will focus on an overall assessment of project outcomes after five years. The final report will provide information on how well the HR system changes achieved the desired goals, which interventions were most effective, and whether the results can be generalized to other Federal installations.

VIII. Demonstration Project Costs

A. Cost Discipline

An objective of the demonstration project is to ensure in-house cost discipline. A baseline will be established at the start of the project, and labor expenditures will be tracked yearly. Implementation costs (including project development, automation costs, step buy-in costs, and evaluation costs) are considered one-time costs and will not be included in the cost discipline.

The Personnel Management Board will track personnel cost changes and recommend adjustments if required to achieve the objective of cost discipline.

B. Developmental Costs

Costs associated with the development of the personnel demonstration project include software automation, training, and project evaluation. All funding will be provided through the organization's budget. The projected annual expenses are summarized in Table 9. Project evaluation costs are not expected to continue beyond the first five years unless the results and external requirements warrant further evaluation.

Table 9—Projected Development Costs
[In thousands of dollars]
| FY10 | FY11 | FY12 | FY13 | FY14
Design & Termination From NSPS | 2-K | 2-K
Training | 5-K | 20-K | 10-K | 5-K | 5-K
Project Evaluation | 0-K | 35-K | 25-K | 25-K | 25-K
Automation | 0-K | 190-K | 40-K | 40-K | 40-K
Totals | 7-K | 247-K | 75-K | 70-K | 70-K

IX. Required Waivers to Law and Regulation

Public Law 106-398 gave the DoD the authority to experiment with several personnel management innovations. In addition to the authorities granted by the law, the following are waivers of law and regulation that will be necessary for implementation of the demonstration project. In due course, additional laws and regulations may be identified for waiver request.

The following waivers and adaptations of certain title 5 U.S.C. and 5 CFR provisions are required only to the extent that these statutory provisions limit or are inconsistent with the actions contemplated under this demonstration project. Nothing in this plan is intended to preclude the demonstration project from adopting or incorporating any law or regulation enacted, adopted, or amended after the effective date of this demonstration project.

A. Waivers to Title 5 U.S.C.

Chapter 5, section 552a: Records maintained on individuals. This section is waived only to the extent required to clarify that volunteers under the Voluntary Emeritus Corps are considered employees of the Federal government for purposes of this section.

Chapter 31, section 3111: Acceptance of Volunteer Service. Waived to allow for a Volunteer Emeritus Corps in addition to student volunteers.

Chapter 33, subchapter 1, section 3318(a): Competitive Service, Selection from Certificate. Waived to the extent necessary to eliminate the requirement for selection using the “Rule of Three.”

Chapter 33, section 3319: Alternative Ranking and Selection Procedures. This section is waived to eliminate quality categories.

Chapter 33, section 3321: Competitive Service; Probationary Period. This section waived only to the extent necessary to replace grade with “pay band level.”

Chapter 33, section 3341: Details. Waived as necessary to extend the time limits for details.

Chapter 41, section 4108 (a)-(c): Employee Agreements: Service After Training. Waived to the extent necessary to: (1) Provide that the employee's service obligation is to continue in the service of TARDEC for the period of the required service; (2) permit the TARDEC Director, to waive in whole or in part, a right of recovery; and (3) require employees under the Student Career Experience Program who have received tuition assistance to sign a service agreement up to three times the length of the training.

Chapter 43, section 4302 and 4303: Waived to the extent necessary to: (1) Substitute pay band for grade; and (2) provide that moving to a lower pay band as a result of not receiving the general pay increase because of poor performance is not an action covered by the provisions of sections 4303(a) through (d).

Chapter 43, section 4304(b)(1) and (3): Responsibilities of the OPM. Waived in its entirety to remove the responsibilities of the OPM with respect to the performance appraisal system.

Chapter 45, subchapter I, section 4502(a) and (b)—Waiver to permit TARDEC to approve awards up to $25,000 for individual employees.

Chapter 51, sections 5101-5112: Classification. Waived as necessary to allow for the demonstration project pay banding system.

Chapter 53, sections 5301, 5302 (8) and (9), 5303, and 5304: Pay Comparability System. Sections 5301, 5302, and 5304 are waived to the extent necessary to allow: (1) Demonstration project employees to be treated as GS employees and (2) basic rates of pay under the demonstration project to be treated as scheduled rates of pay.

Chapter 53, section 5305: Special Pay Authority. Waived to the extent necessary to allow for use of a staffing supplement in lieu of the special pay authority.

Chapter 53, sections 5331-5336: General Schedule Pay Rates. Waived in its entirety to allow for the demonstration project's pay banding system and pay provisions.

Chapter 53, sections 5361-5366: Grade and Pay Retention. Waived to the extent necessary to: (1) Replace “grade” with “pay band;” (2) allow demonstration project employees to be treated as GS employees; (3) provide that pay band retention provisions do not apply to conversions from GS special rates or NSPS Targeted Local Market Supplements to demonstration project pay, as long as total pay is not reduced, to reductions in pay due solely to the removal of a supervisory pay adjustment upon voluntarily leaving a supervisory position, and to movements to a lower pay band as a result of not receiving the general pay increase due to a rating of record of “Unacceptable” contribution; (4) provide that an employee on pay retention whose rating of record is “Unacceptable” contribution is not entitled to 50 percent of the amount of the increase in the maximum rate of base pay payable for the pay band of the employee's position; and (5) provide that pay retention does not apply to reduction in base pay due solely to the reallocation of demonstration project pay rates in the implementation of a staffing supplement.

Chapter 55, section 5542(a) (1)-(2): Overtime rates; computation. Waived to the extent necessary to provide that the GS-10 minimum special rate (if any) for the special rate category to which a project employee belongs is deemed to be the “applicable special rate” in applying the pay cap provisions.

Chapter 55, section 5545(d): Hazardous duty differential. Waived to the extent necessary to allow demonstration project employees to be treated as GS employees. Chapter 55, section 5546: Waived to allow holiday premium pay at twice an employee's adjusted salary hourly rate for each hour worked as directed or approved, including overtime hours.

Chapter 55, section 5547 (a)-(b): Limitation on premium pay. Waived to the extent necessary to provide that the GS-15 maximum special rate (if any) for the special rate category to which an employee belongs is deemed to be the applicable special rate in applying the pay cap provisions in 5 U.S.C. 5547.

Chapter 57, section 5753, 5754, and 5755: Recruitment and relocation bonuses, retention incentives and supervisory differentials. Waived to the extent necessary to allow: (1) Employees and positions under the demonstration project to be treated as employees and positions under the GS and (2) that management may offer a bonus to incentivize geographic mobility to a SCEP student.

Chapter 59, section 5941: Allowances based on living costs and conditions of environment; employees stationed outside continental U.S. or Alaska. Waived to the extent necessary to provide that cost of living allowances paid to employees under the demonstration project are paid in accordance with regulations prescribed by the President (as delegated to OPM).

Chapter 75, sections 7501(1), 7511(a)(1)(A)(ii), and 7511(a)(1)(C)(ii): Adverse Actions—Definitions. Waived to the extent necessary to allow for up to a three-year probationary period and to permit termination during the extended probationary period without using adverse action procedures for those employees serving a probationary period under an initial appointment except for those with veterans' preference.

Chapter 75, section 7512(3): Adverse actions. Waived to the extent necessary to replace “Grade” with “Pay Band.”

Chapter 75, section 7512(4): Adverse actions. Waived to the extent necessary to provide that adverse action provisions do not apply to: (1) Conversions from GS special rates to demonstration project pay, as long as total pay is not reduced; (2) reductions in pay due to the removal of a supervisory or team leader pay adjustment upon voluntary movement to a non-supervisory or non-team leader position; and (3) reduction in supervisory pay due to a performance review.

B. Waivers to Title 5 CFR

Part 300, sections 300.601 through 605: Time-in-Grade restrictions. Waived to eliminate time-in-grade restrictions in the demonstration project.

Part 308, sections 308.101 through 308.103: Volunteer service. Waived to allow for a Voluntary Emeritus Corps in addition to student volunteers.

Part 315, section 315.801(a), 315.801(b)(1), (c), and (e), and 315.802(a) and (b)(1): Probationary period and Length of probationary period. Waived to the extent necessary to allow for up to a three-year probationary period and to permit termination during the extended probationary period without using adverse action procedures for those employees serving a probationary period under an initial appointment except for those with veterans' preference.

Part 315, section 315.901 and 315.907: Probation on Initial Appointment to a Supervisory or Managerial Position. This section waived only to the extent necessary to replace grade with “pay band level.”

Part 316, sections 316.301, 316.303, and 316.304: Term Employment. (These sections are waived to allow modified term appointments as described in this Federal Register notice.)

Part 332, sections 332.401 and 332.404: Order on Registers and Order of Selection from Certificates. (These sections are waived to the extent necessary to allow: (1) No rating and ranking when there are 15 or fewer qualified applicants and no preference eligibles; (2) the hiring and appointment authorities as described in this Federal Register notice; and (3) elimination of the “rule of three.”

Part 335, section 335.103(c)(1) i and ii: Agency promotion programs. Waived to the extent necessary to extend the length of details and temporary promotions without requiring competitive procedures or numerous short-term renewals.

Part 337, section 337.101(a): Rating applicants. Waived to the extent necessary to allow referral without rating when there are 15 or fewer qualified candidates and no qualified preference eligibles.

Part 340, subpart A, subpart B, and subpart C: Other than Full-Time Career Employment. (These subparts are waived to the extent necessary to allow a Volunteer Emeritus Corps.)

Part 351, Reduction in Force. This part is waived to the extent necessary to allow provisions of the RIF plan as described in this Federal Register notice. In accordance with this FR, TARDEC will define the competitive area, retention standing, and displacement limitations. Specific waivers include:

Part 351.402(b): Competitive area. Waived to expand the definition of a competitive area.

Part 351, section 351.504: Credit for performance. Waived as necessary to revise the method for adding years of service based on performance; to allow for single round of competition; and modified displacement.

Part 351, sections 351.601-351.608: Release from Competitive Level. Waived order of release from a competitive level based upon augmented service performance.

Part 351, section 351.701: Assignment involving displacement. Waived to the extent that bump and retreat rights are limited to one pay band with the exception of 30 percent preference eligibles who are limited to two pay bands (or equivalent of five GS grades); to limit the assignment rights of employees with an unacceptable current rating of record to a position held by another employee with an unacceptable rating of record; and to modify assignment rights to allow for a single round of competition.

Part 410, section 410.309: Agreements to continue in service. Waived to the extent necessary to allow the TARDEC Director to determine requirements related to continued service agreements, including employees under the Student Career Experience Program who have received tuition assistance.

Part 430, subpart B: Performance Appraisal for GS and Certain Other Employees. Waived to the extent necessary to be consistent with the demonstration project's CCAS system.

Part 430, section 430.208(a)(1) and (2): Rating Performance. Waived to allow presumptive ratings for new employees hired 90 days or less before the end of the appraisal cycle or for other situations not providing adequate time for an appraisal

Part 432, sections 432.101-432.105: Regarding performance based reduction in grade and removal actions. These sections are waived to the extent necessary to: (1) Replace grade with “pay band;” (2) exclude reductions in pay band level not accompanied by a reduction in pay; and (3) allow provisions of CCAS. For employees who are reduced in pay band level without a reduction in pay, sections 432.105 and 432.106 (a) do not apply.

Part 451, subpart A, section 451.103(c)(2): Waived with respect to performance awards under the TARDEC CCAS.

Part 451, Sections 451.106(b) and 451.107(b): Awards. Waived to permit TARDEC to approve awards up to $25,000 for individual employees.

Part 511, subpart A: General Provisions and subpart B: Coverage of the GS. Waived to the extent necessary to allow for the demonstration project classification system and pay banding structure.

Part 511, section 511.601: Applicability of regulations. Classification appeals modified to the extent that white collar positions established under the project plan, although specifically excluded from title 5 CFR, are covered by the classification appeal process outlined in this FRN section III.B.5, as amended below.

Part 511, section 511.603(a): Right to appeal. Waived to the extent necessary to substitute pay band for grade.

Part 511, section 511.607(b): Non-Appealable Issues. Add to the list of issues that are neither appealable nor reviewable, the assignment of series under the project plan to appropriate occupational families and the demonstration project classification criteria.

Part 530, subpart C: Special Rate Schedules for Recruitment and Retention. Waived in its entirety to allow for staffing supplements.

Part 531, subparts B: Determining Rate of Basic Pay. Waived to the extent necessary to allow for pay setting and CCAS under the provisions of the demonstration project.

Part 531, subparts D and E: Within-Grade Increases and Quality Step Increases. Waived in its entirety.

Part 531, subpart F: Locality-Based Comparability Payments. Waived to the extent necessary to allow: (1) Demonstration project employees, except employees in Pay Band V of the E&S occupational family, to be treated as GS employees; and (2) base rates of pay under the demonstration project to be treated as scheduled annual rates of pay.

Part 536: Grade and Pay Retention: These sections waived to the extent necessary to: (1) Replace grade with “pay band;” (2) allow Demonstration project employees to be treated as GS employees; and (3) to allow provisions of this Federal Register notice pertaining to pay band and pay retention.

Part 550, sections 550.105 and 550.106: Bi-weekly and annual maximum earnings limitations. Waived to the extent necessary to provide that the GS-15 maximum special rate (if any) for the special rate category to which a project employee belongs is deemed to be the applicable special rate in applying the pay cap provisions in 5 U.S.C. 5547.

Part 550, section 550.703: Definitions. Waived to the extent necessary to modify the definition of “reasonable offer” by replacing “two grade or pay levels” with “one band level” and “grade or pay level” with “band level.”

Part 550, section 550.902: Definitions. Waived to the extent necessary to allow demonstration project employees to be treated as GS employees.

Part 575, subparts A, B, and C: Recruitment, Relocation, and Retention Incentives. Waived to the extent necessary to allow: (1) Employees and positions under the demonstration project covered by pay banding to be treated as employees and positions under the GS; (2) Occupational Family relocation incentives to new SCEP students; and (3) relocation incentives to SCEP students whose worksite is in a different geographic location than that of the college enrolled.

Part 575, subpart D: Supervisory Differentials. Subpart D is waived in its entirety.

Part 591, subpart B: Cost-of-Living Allowance and Post Differential—Non-foreign Areas. Waived to the extent necessary to allow: (1) Demonstration project employees to be treated as employees under the GS.

Part 752, sections 752.101, 752.201, 752.301 and 752.401: Principal statutory requirements and Coverage. Waived to the extent necessary to allow for up to a three-year probationary period and to permit termination during the extended probationary period without using adverse action procedures for those employees serving a probationary period under an initial appointment except for those with veterans' preference.

Part 752, section 752.401: Coverage. Waived to the extent necessary to replace grade with pay band and to provide that a reduction in pay band level is not an adverse action if it results from the employee's rate of base pay being exceeded by the minimum rate of base pay for his/her pay band.

Part 752, section 752.401(a)(4): Coverage. Waived to the extent necessary to provide that adverse action provisions do not apply to: (1) Conversions from GS special rates or NSPS Targeted Local Market Supplements to demonstration project pay, as long as total pay is not reduced; and (2) reductions in pay due to the removal of a supervisory or team leader pay adjustment upon voluntary movement to a non-supervisory or non-team leader position or decreases in the amount of a supervisory or team leader pay adjustment based on the annual review.

Appendix A: TARDEC Employees by Duty Location

[Total excludes SES, ST, and Wage Grade]
Duty location | Employees | Servicing personnel office
TARDEC Warren, MI | 1093 | NE Region.
Matrixed to PEO's | 312 | NE Region.
York, PA | 1 | NE Region.
New Cumberland, PA | 11 | NE Region.
Selfridge AFB, MI | 1 | NE Region.
Ft. Hood, TX | 2 | NE Region.
Ft. Bragg, NC | 1 | NE Region.
Ft. Lewis, WA | 1 | NE Region.
Ft. Hueneme, CA | 2 | NE Region.
Alexandria, VA | 1 | NE Region.
Ft. Benning, GA | 1 | NE Region.
McClean, VA | 1 | NE Region.
Total All Employees | 1427 |

Appendix B: Occupational Series by Occupational Family

Engineering & Science

0801 General Engineering and Architecture Series

0803 Safety Engineering Series

0806 Materials Engineering Series

0819 Environmental Engineering Series

0830 Mechanical Engineering Series

0850 Electrical Engineering Series

0854 Computer Engineering Series

0855 Electronics Engineering Series

0858 Bioengineering and Biomedical Engineering Series

0861 Aerospace Engineering Series

0893 Chemical Engineering Series

0896 Industrial Engineering Series

0899 General Engineering Student Trainee Series

1301 General Physical Science Series

1306 Health Physics Series

1310 Physics Series

1320 Chemistry Series

1321 Metallurgy Series

1399 Physical Science Student Trainee Series

1501 General Mathematics and Statistics Series

1515 Operations Research Series

1520 Mathematics Series

1550 Computer Science Series

1599 Mathematics and Statistics Student Trainee Series

Business/Technical

0018 Safety and Occupational Health Management Series

0301 Miscellaneous Administration and Program Series

0340 Management Series

0341 Administrative Officer Series

0342 Support Services Administration Series

0343 Management and Program Analysis Series

0346 Logistics Management Series

0501 Financial Administration and Program Series

0510 Accounting Series

0802 Engineering Technical Series

0856 Electronics Technical Series

0895 Industrial Engineering Technical Series

0905 General Attorney Series

0950 Paralegal Specialist Series

1000 Information and Arts Group Series

1035 Public Affairs Series

1071 Audiovisual Production Series

1083 Technical Writing and Editing Series

1084 Visual Information Series

1100 Business and Industry Series

1102 Contracting Series

1222 Patent Attorney Series

1311 Physical Science Technician Series

1410 Librarian Series

1412 Technical Information Services Series

1670 Equipment Services Series

1702 Education and Training Technician Series

1712 Training Instructor Series

1910 Quality Assurance Series

2032 Packaging Series

2210 Information Technology Management Series

General Support

0303 Miscellaneous Clerk and Assistant Series

0318 Secretary Series

0326 Office Automation Clerical and Assistance Series

0335 Computer Clerk and Assistant Series

0344 Management and Program Clerical and Assistance Series

Appendix C: Contribution-Based Compensation and Appraisal System (CCAS) Factors

CAREER PATH 1: ENGINEERING AND SCIENCE PROFESSIONAL

FACTOR 1: PROBLEM SOLVING

FACTOR DESCRIPTION: This factor describes/captures personal and organizational problem-solving results.

EXPECTED PERFORMANCE CRITERIA (Applicable to all contributions at all levels): Work is timely, efficient, and of acceptable quality. Completed work meets projects/programs objectives. Flexibility, adaptability, and decisiveness are exercised appropriately. Descriptors indicate the type of contribution appropriate for the high end of each level. Descriptors are not to be used individually to assess contributions, but rather are to be taken as a group to derive a single evaluation of the factor.

Level descriptors | Discriminators
Level I:
• Performs activities on a task; assists supervisor or other appropriate personnel | • Scope/Impact.
• Resolves routine problems within established guidelines | • Complexity/Difficulty.
• Independently performs assigned tasks within area of responsibility; refers situations to supervisor or other appropriate personnel when existing guidelines do not apply | • Independence.
• Takes initiative in determining and implementing appropriate procedures | • Creativity.
Level II:
• Plans and conducts functional technical activities for projects/programs | • Scope/Impact.
• Identifies, analyzes, and resolves complex/difficult problems | • Complexity/Difficulty.
• Independently identifies and resolves conventional problems which may require deviations from accepted policies or instructions | • Independence.
• Adapts existing plans and techniques to accomplish complex projects/programs. Recommends improvements to the design or operation of systems, equipment, or processes | • Creativity.
Level III:
• Independently defines, directs, or leads highly challenging projects/programs. Identifies and resolves highly complex problems not susceptible to treatment by accepted methods | • Scope/Impact.
• Develops, integrates, and implements solutions to diverse, highly complex problems across multiple areas and disciplines | • Complexity/Difficulty.
• Anticipates problems, develops sound solutions and action plans to ensure program/mission accomplishment | • Independence.
• Develops plans and techniques to fit new situations to improve overall program and policies. Establishes precedents in application of problem-solving techniques to enhance existing processes | • Creativity.
Level IV:
• Defines, establishes, and directs organizational focus (on challenging and highly complex project/programs). Identifies and resolves highly complex problems that cross organizational boundaries and promulgates solutions. Resolution of problems requires mastery of the field to develop new hypotheses or fundamental new concepts | • Scope/Impact.
• Assesses and provides strategic direction for resolution of mission critical problems, policies, and procedures | • Complexity/Difficulty.
• Works at senior level to define, integrate, and implement strategic direction for vital programs with long-term impact on large numbers of people. Initiates actions to resolve major organizational issues. Promulgates innovative solutions and methodologies | • Independence.
• Works with senior management to establish new fundamental concepts and criteria and stimulate the development of new policies, methodologies, and techniques. Converts strategic goals into programs or policies | • Creativity.

FACTOR 2: TEAMWORK/COOPERATION

FACTOR DESCRIPTION: This factor, applicable to all teams, describes/captures individual and organizational teamwork and cooperation.

EXPECTED PERFORMANCE CRITERIA (Applicable to all contributions at all levels): Work is timely, efficient, and of acceptable quality. Personal and organizational interactions exhibit and foster cooperation and teamwork. Flexibility, adaptability, and decisiveness are exercised appropriately.

Descriptors indicate the type of contribution appropriate for the high end of each level. Descriptors are not to be used individually to assess contributions, but rather are to be taken as a group to derive a single evaluation of the factor.

Level descriptors | Discriminators
Level I:
• Works with others to accomplish routine tasks | • Scope of Team Effort.
• Contributes ideas in own area of expertise. Interacts cooperatively with others | • Contribution to Team.
• Regularly completes assignments in support of team goals | • Effectiveness.
Level II:
• Works with others to accomplish projects/programs | • Scope of Team Effort.
• Uses varied approaches to resolve or collaborate on projects/programs issues. Facilitates cooperative interactions with others | • Contribution to Team.
• Guides/supports others in executing team assignments. Proactively functions as an integral part of the team | • Effectiveness.
Level III:
• Works with others to accomplish complex projects/programs | • Scope of Team Effort.
• Applies innovative approaches to resolve unusual/difficult issues significantly impacting important policies or programs. Promotes and maintains environment for cooperation and teamwork | • Contribution to Team.
• Leads and guides others in formulating and executing team plans. Expertise is sought by peers | • Effectiveness.
Level IV:
• Leads/guides/mentors workforce in dealing with complex problems | • Scope of Team Effort.
• Solves broad organizational issues. Implements strategic plans within and across organizational components. Ensures a cooperative teamwork environment | • Contribution to Team.
• Leads/guides workforce in achieving organizational goals. Participates on high-level teams. Is sought out for consultation | • Effectiveness.

FACTOR 3: CUSTOMER RELATIONS

FACTOR DESCRIPTION: This factor describes/captures the effectiveness of personal and organizational interactions with customers (anyone to whom services or products are provided), both internal (within an assigned organization) and external (outside an assigned organization).

EXPECTED PERFORMANCE CRITERIA (Applicable to all contributions at all levels):

Work is timely, efficient, and of acceptable quality. Personal and organizational interactions enhance customer relations and actively promote rapport with customers. Flexibility, adaptability, and decisiveness are exercised appropriately.

Descriptors indicate the type of contribution appropriate for the high end of each level. Descriptors are not to be used individually to assess contributions, but rather are to be taken as a group to derive a single evaluation of the factor.

Level descriptors | Discriminators
Level I:
• Independently carries out routine customer requests | • Breadth of Influence.
• Participates as a team member to meet customer needs | • Customer Needs.
• Interacts with customers on routine issues with appropriate guidance | • Customer Interaction Level.
Level II:
• Guides the technical/functional efforts of individuals or team members as they interact with customers | • Breadth of Influence.
• Initiates meetings and interactions with customers to understand customer needs/expectations | • Customer Needs.
• Interacts independently with customers to communicate information and coordinate actions | • Customer Interaction Level.
Level III:
• Guides and integrates functional efforts of individuals or teams in support of customer interaction. Seeks innovative approaches to satisfy customers | • Breadth of Influence.
• Establishes customer alliances, anticipates and fulfills customer needs, and translates customer needs to programs/projects | • Customer Needs.
• Interacts independently and proactively with customers to identify and define complex/difficult problems and to develop and implement strategies or techniques for resolving program/project problems (e.g., determining priorities and resolving conflict among customers' requirements) | • Customer Interaction Level.
Level IV:
• Leads and manages the organizational interactions with customers from a strategic standpoint | • Breadth of Influence.
• Works to assess and promulgate political, fiscal, and other factors affecting customer and program/project needs. Works with customer at management levels to resolve problems affecting programs/projects (e.g., problems that involve determining priorities and resolving conflicts among customers' requirements) | • Customer Needs.
• Works at senior level to stimulate customer alliances for program/project support. Stimulates, organizes, and leads overall customer interactions | • Customer Interaction Level.

FACTOR 4: LEADERSHIP/SUPERVISION

FACTOR DESCRIPTION: This factor describes/captures individual and organizational leadership and/or supervision. Recruits, develops, motivates, and retains quality team members in accordance with EEO/AA and Merit Principles. Takes timely/appropriate personnel actions, communicates mission and organizational goals; by example, creates a positive, safe, and challenging work environment; distributes work and empowers team members.

EXPECTED PERFORMANCE CRITERIA (Applicable to all contributions at all levels): Work is timely, efficient, and of acceptable quality. Leadership and/or supervision effectively promotes commitment to mission accomplishment. Flexibility, adaptability, and decisiveness are exercised appropriately.

Descriptors indicate the type of contribution appropriate for the high end of each level. Descriptors are not to be used individually to assess contributions, but rather are to be taken as a group to derive a single evaluation of the factor.

Level descriptors | Discriminators
Level I:
• Takes initiative in accomplishing assigned tasks | • Leadership Role.
• Provides inputs to others in own technical/functional area | • Breadth of Influence.
• Seeks and takes advantage of developmental opportunities | • Mentoring/Employee Development.
Level II:
• Actively contributes as a team member/leader; provides insight and recommends changes or solutions to problems | • Leadership Role.
• Proactively guides, coordinates, and consults with others to accomplish projects | • Breadth of Influence.
• Identifies and pursues individual/team development opportunities | • Mentoring/Employee Development.
Level III:
• Provides guidance to individuals/teams; resolves conflicts. Considered a functional/technical expert by others in the organization; is regularly sought out by others for advice and assistance | • Leadership Role.
• Defines, organizes, and assigns activities to accomplish projects/programs goals. Guides, motivates, and oversees the activities of individuals and teams with focus on projects/programs issues | • Breadth of Influence.
• Fosters individual/team development by mentoring. Pursues or creates training development programs for self and others | • Mentoring/Employee Development.
Level IV:
• Establishes and/or leads teams to carry out complex projects or programs. Resolves conflicts. Creates climate where empowerment and creativity thrive. Recognized as a technical/functional authority on specific issues | • Leadership Role.
• Leads, defines, manages, and integrates efforts of several groups or teams. Ensures organizational mission and program success | • Breadth of Influence.
• Fosters the development of other team members by providing guidance or sharing expertise. Directs assignments to encourage employee development and cross-functional growth to meet organizational needs. Pursues personal professional development | • Mentoring/Employee Development.

FACTOR 5: COMMUNICATION

FACTOR DESCRIPTION: This factor describes/captures the effectiveness of oral/written communications.

EXPECTED PERFORMANCE CRITERIA (Applicable to all contributions at all levels): Work is timely, efficient, and of acceptable quality. Communications are clear, concise, and at appropriate level. Flexibility, adaptability, and decisiveness are exercised appropriately.

Descriptors indicate the type of contribution appropriate for the high end of each level. Descriptors are not to be used individually to assess contributions, but rather are to be taken as a group to derive a single evaluation of the factor.

Level descriptors | Discriminators
Level I:
• Communicates routine task status/results as required | • Level of Interaction (Audience).
• Provides timely data and written analyses for input to management/technical reports or contractual documents | • Written.
• Explains status/results of assigned tasks | • Oral.
Level II:
• Communicates team or group tasking results, internally and externally, at peer levels | • Level of Interaction (Audience).
• Writes, or is a major contributor to, management/technical reports or contractual documents | • Written.
• Presents informational briefings | • Oral.
Level III:
• Communicates project or program results to all levels, internally and externally | • Level of Interaction (Audience).
• Reviews and approves, or is a major contributor to/lead author of, management reports or contractual documents for external distribution. Provides inputs to policies | • Written.
• Presents briefings to obtain consensus/approval | • Oral.
Level IV:
• Determines and communicates organizational positions on major projects or policies to senior level | • Level of Interaction (Audience).
• Prepares, reviews, and approves major reports or policies of organization for internal and external distribution. Resolves diverse viewpoints/controversial issues | • Written.
• Presents organizational briefings to convey strategic vision or organizational policies | • Oral.

FACTOR 6: RESOURCE MANAGEMENT

FACTOR DESCRIPTION: This factor describes/captures personal and organizational utilization of resources to accomplish the mission. (Resources include, but are not limited to, personal time, equipment and facilities, human resources, and funds.)

EXPECTED PERFORMANCE CRITERIA (Applicable to all contributions at all levels): Work is timely, efficient, and of acceptable quality. Resources are utilized effectively to accomplish mission. Flexibility, adaptability, and decisiveness are exercised appropriately.

Descriptors indicate the type of contribution appropriate for the high end of each level. Descriptors are not to be used individually to assess contributions, but rather are to be taken as a group to derive a single evaluation of the factor.

Level descriptors | Discriminators
Level I:
• Uses assigned resources needed to accomplish tasks | • Scope of Responsibility.
• Plans individual time and assigned resources to accomplish tasks | • Planning/Budgeting.
• Effectively accomplishes assigned tasks | • Execution/Efficiency.
Level II:
• Plans and utilizes appropriate resources to accomplish project goals | • Scope of Responsibility
• Optimizes resources to accomplish projects/programs within established schedules | • Planning/Budgeting.
• Effectively accomplishes projects/programs goals within established resource guidelines | • Execution/Efficiency.
Level III:
• Plans and allocates resources to accomplish multiple projects/programs | • Scope of Responsibility.
• Identifies and optimizes resources to accomplish multiple projects/programs goals | • Planning/Budgeting.
• Effectively accomplishes multiple projects/programs goals within established guidelines | • Execution/Efficiency.
Level IV:
• Develops, acquires, and allocates resources to accomplish mission goals and strategic objectives | • Scope of Responsibility.
• Formulates organizational strategies, tactics, and budget/action plan to acquire and allocate resources | • Planning/Budgeting.
• Optimizes, controls, and manages all resources across projects/programs. Develops and integrates innovative approaches to attain goals and minimize expenditures | • Execution/Efficiency.

CAREER PATH 2: BUSINESS AND TECHNICAL SUPPORT

FACTOR 1: PROBLEM SOLVING

FACTOR DESCRIPTION: This factor describes/captures personal and organizational problem-solving.

EXPECTED PERFORMANCE CRITERIA (Applicable to all contributions at all levels): Work is timely, efficient, and of acceptable quality. Completed work meets project/program objectives. Flexibility, adaptability, and decisiveness are exercised appropriately.

Descriptors indicate the type of contribution appropriate for the high end of each level. Descriptors are not to be used individually to assess contributions, but rather are to be taken as a group to derive a single evaluation of the factor.

Level descriptors | Discriminators
Level I:
• Conducts activities on a task; assists supervisors or other appropriate personnel | • Scope/Impact.
• Resolves routine problems within established guidelines | • Complexity/Difficulty.
• Works with others in solving problems with appropriate guidance | • Independence.
• Takes initiative in selecting and implementing appropriate procedures | • Creativity.
Level II:
• Plans and conducts technical activities for projects | • Scope/Impact.
• Identifies and resolves non-routine technical problems utilizing established patterns and methods | • Complexity/Difficulty.
• Identifies and resolves problems; adapts accepted policies, procedures, or methods with moderate guidance | • Independence.
• Adapts existing plans and techniques to accomplish projects | • Creativity.
Level III:
• Plans and conducts challenging and difficult technical activities for projects/programs | • Scope/Impact.
• Develops, integrates, and implements solutions to complex problems on projects/programs | • Complexity/Difficulty.
• Identifies problems; develops solutions and action plans with minimal guidance | • Independence.
• Develops plans and techniques to fit new situations | • Creativity.
Level IV:
• Identifies and resolves complex problems that may cross functional/technical boundaries and promulgates solutions | • Scope/Impact.
• Develops, integrates/implements solutions to diverse, complex problems which may cross multiple projects/programs or functional/technical areas | • Complexity/Difficulty.
• Independently resolves and coordinates technical problems involving multiple projects/programs | • Independence.
• Develops plans and techniques to fit new situations and/or to address issues that cross technical/functional areas | • Creativity.

FACTOR 2: TEAMWORK/COOPERATION

FACTOR DESCRIPTION: This factor describes/captures individual and organizational teamwork and cooperation.

EXPECTED PERFORMANCE CRITERIA (Applicable to all contributions at all levels): Work is timely, efficient, and of acceptable quality. Personal and organizational interactions exhibit and foster cooperation and teamwork. Flexibility, adaptability, and decisiveness are exercised appropriately.

Descriptors indicate the type of contribution appropriate for the high end of each level. Descriptors are not to be used individually to assess contributions, but rather are to be taken as a group to derive a single evaluation of the factor.

Level descriptors | Discriminators
Level I:
• Works with others to accomplish routine tasks | • Scope of Team Effort.
• Contributes ideas in own area of expertise. Interacts cooperatively with others | • Contribution to Team.
• Regularly completes assignments in support of team goals | • Effectiveness.
Level II:
• Works with others in accomplishing projects | • Scope of Team Effort.
• Contributes ideas in own area of expertise. Facilitates cooperative interactions with others | • Contribution to Team.
• Supports others in executing team assignments. Proactively functions as an integral part of the team | • Effectiveness.
Level III:
• Works with others to accomplish complex projects/programs | • Scope of Team Effort.
• Guides others to resolve or collaborate on complex projects/programs issues. Promotes cooperative interactions with others | • Contribution to Team.
• Integrates technical expertise and guides activities to support team accomplishment | • Effectiveness.
Level IV:
• Leads others to accomplish complex projects and programs | • Scope of Team Effort
• Applies innovative approaches to resolve unusual/difficult technical/management issues. Promotes and maintains environment for cooperation and teamwork | • Contribution to Team.
• Leads and guides others in formulating and executing team plans. Expertise is sought by others | • Effectiveness.

FACTOR 3: CUSTOMER RELATIONS

FACTOR DESCRIPTION: This factor describes/captures the effectiveness of personal and organizational interactions with customers (anyone to whom services or products are provided), both internal (within an assigned organization) and external (outside an assigned organization).

EXPECTED PERFORMANCE CRITERIA (Applicable to all contributions at all levels): Work is timely, efficient, and of acceptable quality. Personal and organizational interactions enhance customer relations and actively promote rapport with customers. Flexibility, adaptability, and decisiveness are exercised appropriately.

Descriptors indicate the type of contribution appropriate for the high end of each level. Descriptors are not to be used individually to assess contributions, but rather are to be taken as a group to derive a single evaluation of the factor.

Level descriptors | Discriminators
Level I:
• Assists customer support activities | • Breadth of Influence.
• Participates as a team member to meet customer needs | • Customer Needs.
• Interacts with customers on routine issues with appropriate guidance | • Customer Interaction Level.
Level II:
• Actively participates with others to satisfy customer requests | • Breadth of Influence.
• Interacts with customers to respond to customer needs/expectations | • Customer Needs.
• Interacts with customers to communicate information and coordinate action | • Customer Interaction Level.
Level III:
• Guides the technical efforts of individuals or teams as they relate with customers. Deviates from standard approaches when necessary | • Breadth of Influence.
• Initiates meetings and interactions with customers to understand customer needs/expectations | • Customer Needs.
• Interacts independently and proactively with customers to identify/define problems and to implement solutions | • Customer Interaction Level.
• Level IV:
• Leads and coordinates technical efforts of individuals or teams in support of customer interactions. Develops innovative approaches to satisfy customers | • Breadth of Influence.
• Establishes customer alliances; anticipates and fulfills customer needs and translates customer needs to projects/programs. Organizes and leads customer interactions | • Customer Needs.
• Interacts proactively with customers to identify and define complex/controversial problems and to develop and implement strategies or techniques for resolving projects/programs issues | • Customer Interaction Level.

FACTOR 4: LEADERSHIP/SUPERVISION

FACTOR DESCRIPTION: This factor describes/captures individual and organizational leadership and/or supervision. Recruits, develops, motivates, and retains quality team members in accordance with EEO/AA and Merit Principles. Takes timely/appropriate personnel actions, communicates mission and organizational goals; by example, creates a positive, safe, and challenging work environment; distributes work and empowers team members.

EXPECTED PERFORMANCE CRITERIA (Applicable to all contributions at all levels): Work is timely, efficient, and of acceptable quality. Leadership and/or supervision effectively promotes commitment to mission accomplishment. Flexibility, adaptability, and decisiveness are exercised appropriately.

Descriptors indicate the type of contribution appropriate for the high end of each level. Descriptors are not to be used individually to assess contributions, but rather are to be taken as a group to derive a single evaluation of the factor.

Level descriptors | Discriminators
Level I:
• Takes initiative in accomplishing assigned tasks. Asks for assistance as appropriate | • Leadership Role.
• Provides input to others in technical/functional area | • Breadth of Influence.
• Seeks and takes advantage of developmental opportunities | • Mentoring and Employee Development.
Level II:
• Actively contributes as team member; takes initiative to accomplish assigned projects | • Leadership Role.
• Consults and coordinates with others to complete projects within established guidelines | • Breadth of Influence.
• Identifies and pursues individual/team developmental opportunities | • Mentoring and Employee Development.
Level III:
• Actively contributes as team member or leader. Recognized for functional/technical expertise | • Leadership Role.
• Defines, organizes, and assigns activities to accomplish goals. Guides, motivates and oversees others in accomplishing projects/programs | • Breadth of Influence.
• Promotes developmental opportunities for self and team. Advises others to seek specific training | • Mentoring and Employee Development.
Level IV:
• Provides guidance to individuals/teams; resolves conflicts. Serves as subject matter expert | • Leadership Role.
• Guides, motivates, and oversees multiple complex projects/programs | • Breadth of Influence.
• Directs assignments to encourage employee development and cross-technical/functional growth to meet organizational needs. Pursues self-development | • Mentoring and Employee Development.

FACTOR 5: COMMUNICATION

FACTOR DESCRIPTION: This factor describes/captures the effectiveness of oral/written communications.

EXPECTED PERFORMANCE CRITERIA (Applicable to all contributions at all levels): Work is timely, efficient, and of acceptable quality. Communications are clear, concise, and at appropriate level. Flexibility, adaptability, and decisiveness are exercised appropriately. Descriptors indicate the type of contribution appropriate for the high end of each level. Descriptors are not to be used individually to assess contributions, but rather are to be taken as a group to derive a single evaluation of the factor.

Level descriptors | Discriminators
Level I:
• Communicates routine task/status/results as required | • Level of Interaction (Audience).
• Provides data and accurate draft documentation of assigned tasks for input to reports or documents | • Written.
• Explains status/results of assigned tasks | • Oral.
Level II:
• Communicates team or group project status/results at equivalent levels within the agency | • Level of Interaction (Audience).
• Writes segments of management/technical reports or documents | • Written.
• Communicates group/team results | • Oral.
Level III:
• Communicates projects/programs status/results to management | • Level of Interaction (Audience).
• Consolidates input and writes management/technical reports/documents for projects/programs | • Written.
• Presents projects/programs briefings | • Oral.
Level IV:
• Determines and communicates projects/programs positions at senior levels | • Level of Interaction (Audience).
• Prepares, reviews, and approves management/technical reports for internal and external distribution | • Written.
• Presents projects/programs briefings to obtain consensus/approval. Represents the organization as technical subject matter expert | • Oral.

FACTOR 6: RESOURCE MANAGEMENT

FACTOR DESCRIPTION: This factor describes/captures personal and organizational utilization of resources to accomplish the mission.

EXPECTED PERFORMANCE CRITERIA (Applicable to all contributions at all levels): Work is timely, efficient, and of acceptable quality. Resources are utilized effectively to accomplish mission. Flexibility, adaptability, and decisiveness are exercised appropriately.

Descriptors indicate the type of contribution appropriate for the high end of each level. Descriptors are not to be used individually to assess contributions, but rather are to be taken as a group to derive a single evaluation of the factor.

Level descriptors | Discriminators
Level I:
• Uses assigned resources to accomplish tasks | • Scope of Responsibility.
• Plans individual time to accomplish tasks | • Planning/Budgeting.
• Effectively accomplishes assigned tasks with appropriate guidance | • Execution/Efficiency.
Level II:
• Identifies and uses resources appropriately to accomplish projects | • Scope of Responsibility.
• Plans resources to achieve task schedules | • Planning/Budgeting.
• Independently accomplishes assigned tasks | • Execution/Efficiency.
Level III:
• Plans and utilizes appropriate resources to accomplish projects/programs | • Scope of Responsibility.
• Optimizes resources to accomplish projects within established milestones | • Planning/Budgeting.
• Effectively accomplishes projects/programs within established resource guidelines | • Execution/Efficiency.
Level IV:
• Plans and allocates resources to accomplish multiple project/program goals | • Scope of Responsibility.
• Identifies and optimizes resources to accomplish multiple project/program goals | • Planning/Budgeting.
• Effectively accomplishes multiple project/program goals within established thresholds. Develops innovative approaches to attain goals and minimize resource expenditures | • Execution/Efficiency.

CAREER PATH 3: GENERAL SUPPORT

FACTOR 1: PROBLEM SOLVING

FACTOR DESCRIPTION: This factor describes/captures personal and organizational problem solving.

EXPECTED PERFORMANCE CRITERIA (Applicable to all contributions at all levels): Work is timely, efficient, and of acceptable quality. Completed work meets project/program objectives. Flexibility, adaptability, and decisiveness are exercised appropriately.

Descriptors indicate the type of contribution appropriate for the high end of each level. Descriptors are not to be used individually to assess contributions, but rather are to be taken as a group to derive a single evaluation of the factor.

Level descriptors | Discriminators
Level I:
• Conducts activities on a segment of a task. Assists supervisor or other appropriate personnel | • Scope/Impact.
• Applies standard rules, procedures, or operations to resolve routine problems | • Complexity/Difficulty.
• Independently carries out routine tasks | • Independence.
• Takes initiative in selecting and implementing appropriate procedures | • Creativity.
Level II:
• Plans and conducts administrative activities for projects | • Scope/Impact.
• Develops, modifies, and/or applies rules, procedures, or operations to resolve problems of moderate complexity/difficulty | • Complexity/Difficulty.
• Independently plans and executes assignments; resolves problems and handles deviations | • Independence.
• Identifies and adapts guidelines for new or unusual situations | • Creativity.
Level III:
• Plans and conducts complex administrative activities | • Scope/Impact.
• Develops rules, procedures, or operations for complex/difficult organizational tasks | • Complexity/Difficulty.
• Identifies issues and determines approaches and methods to accomplish tasks. Initiates effective actions and resolves related conflicts | • Independence.
• Identifies issues requiring new procedures and develops appropriate guidelines | • Creativity.

FACTOR 2: TEAMWORK/COOPERATION

FACTOR DESCRIPTION: This factor describes/captures individual and organizational teamwork and cooperation.

EXPECTED PERFORMANCE CRITERIA (Applicable to all contributions at all levels): Work is timely, efficient, and of acceptable quality. Personal and organizational interactions exhibit and foster cooperation and teamwork. Flexibility, adaptability, and decisiveness are exercised appropriately.

Descriptors indicate the type of contribution appropriate for the high end of each level. Descriptors are not to be used individually to assess contributions, but rather are to be taken as a group to derive a single evaluation of the factor.

Level descriptors | Discriminators
Level I:
• Works with others to accomplish routine tasks | • Scope of Team Effort.
• Contributes ideas on routine procedures. Interacts cooperatively with others | • Contribution to Team.
• Regularly completes tasks in support of team goals | • Effectiveness.
Level II:
• Works with others to accomplish tasks | • Scope of Team Effort.
• Resolves administrative problems; facilitates cooperative interactions with others | • Contribution to Team.
• Guides others and coordinates activities in support of team goals. Proactively functions as an integral part of the team | • Effectiveness.
Level III:
• Works with others on complex issues/problems that may cross functional areas | • Scope of Team Effort.
• Applies expertise in resolving complex administrative issues. Promotes and maintains environment for cooperation/teamwork. Sets tone for internal/external cooperation | • Contribution to Team.
• Leads and guides others in formulating and executing plans in support of team goals | • Effectiveness.

FACTOR 3: CUSTOMER RELATIONS

FACTOR DESCRIPTION: This factor describes/captures the effectiveness of personal and organizational interactions with customers (anyone to whom services or products are provided), both internal (within an assigned organization) and external (outside an assigned organization).

EXPECTED PERFORMANCE CRITERIA (Applicable to all contributions at all levels): Work is timely, efficient, and of acceptable quality. Personal and organizational interactions enhance customer relations and actively promote rapport with customers. Flexibility, adaptability, and decisiveness are exercised appropriately.

Descriptors indicate the type of contribution appropriate for the high end of each level. Descriptors are not to be used individually to assess contributions, but rather are to be taken as a group to derive a single evaluation of the factor.

Level descriptors | Discriminators
Level I:
• Assists customer support activities | • Breadth of Influence.
• Meets routine customer needs | • Customer Needs.
• Interacts with customers on routine issues within specific guidelines | • Customer Interaction Level.
Level II:
• Guides the administrative efforts of individuals or team members as they interact with customers | • Breadth of Influence.
• Independently interacts with customers to understand customer needs/expectations | • Customer Needs.
• Interacts independently with customers to communicate information and coordinate actions | • Customer Interaction Level.
Level III:
• Identifies, defines, and guides administrative efforts in support of customer interactions; coordinates and focuses activities to support multiple customers | • Breadth of Influence.
• Establishes customer alliances and translates needs to customer service | • Customer Needs.
• Works independently with customers at all levels to define services and resolve non-routine problems | • Customer Interaction Level.

FACTOR 4: LEADERSHIP/SUPERVISION

FACTOR DESCRIPTION: This factor describes/captures individual and organizational leadership and/or supervision. Recruits, develops, motivates, and retains quality team members in accordance with EEO/AA and Merit Principles. Takes timely/appropriate personnel actions, communicates mission and organizational goals; by example, creates a positive, safe, and challenging work environment; distributes work and empowers team members.

EXPECTED PERFORMANCE CRITERIA (Applicable to all contributions at all levels): Work is timely, efficient, and of acceptable quality. Leadership and/or supervision effectively promotes commitment to mission accomplishment. Flexibility, adaptability, and decisiveness are exercised appropriately.

Descriptors indicate the type of contribution appropriate for the high end of each level. Descriptors are not to be used individually to assess contributions, but rather are to be taken as a group to derive a single evaluation of the factor.

Level descriptors | Discriminators
Level I:
• Takes initiative in accomplishing assigned tasks Asks for assistance as appropriate | • Leadership Role.
• Provides input in administrative/functional area | • Breadth of Influence.
• Seeks and takes advantage of developmental opportunities | • Mentoring and Employee Development.
Level II:
• Actively contributes as team member or leader; takes initiative to accomplish assigned projects | • Leadership Role.
• Guides others in accomplishing projects | • Breadth of Influence.
• Identifies and pursues individual/team developmental opportunities | • Mentoring and Employee Development.
Level III:
• Provides guidance to individuals/teams; resolves conflicts. Expertise solicited by others | • Leadership Role.
• Guides and accounts for results or activities of individuals, teams, or projects | • Breadth of Influence.
• Promotes individual/team development; leads development of training programs for self and others | • Mentoring and Employee Development.

FACTOR 5: COMMUNICATION

FACTOR DESCRIPTION: This factor describes/captures the effectiveness of oral/written communications.

EXPECTED PERFORMANCE CRITERIA (Applicable to all contributions at all levels): Work is timely, efficient, and of acceptable quality. Communications are clear, concise, and at appropriate level. Flexibility, adaptability, and decisiveness are exercised appropriately.

Descriptors indicate the type of contribution appropriate for the high end of each level. Descriptors are not to be used individually to assess contributions, but rather are to be taken as a group to derive a single evaluation of the factor.

Level descriptors | Discriminators
Level I:
• Communicates routine task/status results as required | • Level of Interaction (Audience).
• Writes timely and accurate draft documentation | • Written.
• Explains status/results of assigned tasks | • Oral.
Level II:
• Interprets and communicates administrative procedures within immediate organization | • Level of Interaction (Audience).
• Prepares, coordinates, and consolidates documents, reports, or briefings | • Written.
• Communicates/presents internal administrative/functional procedures and tasks internally and externally | • Oral.
Level III:
• Develops and advises on administrative procedures and communicates them to all levels, both internally and externally | • Level of Interaction (Audience).
• Prepares, reviews, and/or approves documents, reports, or briefings | • Written.
• Explains and/or communicates administrative/functional procedures at all levels | • Oral.

FACTOR 6: RESOURCE MANAGEMENT

FACTOR DESCRIPTION: This factor describes/captures personal and organizational utilization of resources to accomplish the mission. (Resources include, but are not limited to, personal time, equipment and facilities, human resources, and funds.)

EXPECTED PERFORMANCE CRITERIA (Applicable to all contributions at all levels): Work is timely, efficient, and of acceptable quality. Available resources are utilized effectively to accomplish mission. Flexibility, adaptability, and decisiveness are exercised appropriately.

Descriptors indicate the type of contribution appropriate for the high end of each level. Descriptors are not to be used individually to assess contributions, but rather are to be taken as a group to derive a single evaluation of the factor.

Level descriptors | Discriminators
Level I:
• Uses assigned resources to accomplish tasks | • Scope of Responsibility.
• Plans individual time and assigned resources to accomplish tasks | • Planning/Budgeting.
• Effectively accomplishes assigned tasks | • Execution/Efficiency.
Level II:
• Identifies and uses resources to accomplish projects | • Scope of Responsibility.
• Plans resources to achieve project schedules | • Planning/Budgeting.
• Effectively accomplishes projects within established resource guidelines | • Execution/Efficiency.
Level III:
• Plans, acquires, and allocates resources to accomplish objectives | • Scope of Responsibility.
• Coordinates resources across projects | • Planning/Budgeting.
• Optimizes resource utilization across projects | • Execution/Efficiency.

Appendix D: Intervention Model

Intervention | Expected effects | Measures | Data sources
1. Compensation
a. Pay banding | Increased organizational flexibility | Perceived flexibility | Attitude survey.
| Reduced administrative workload, paper work reduction | Actual/perceived time savings | Personnel office data, PME results, attitude survey.
| Advanced in-hire rates | Starting salaries of banded v. non-banded employees | Workforce data.
| Slower pay progression at entry levels | Progression of new hires over time by band, career path | Workforce data.
| Increased pay potential | Mean salaries by band, group, demographics | Workforce data.
|  | Total payroll costs | Personnel office data.
| Increased satisfaction with advancement | Employee perceptions of advancement | Attitude survey.
| Increased pay satisfaction | Pay satisfaction, internal/external equity | Attitude survey.
| Improved recruitment | Offer/acceptance ratios; Percent declinations | Personnel office data.
b. Conversion buy-in | Employee acceptance | Employee perceptions of equity, fairness | Attitude survey.
|  | Cost as a percent of payroll | Workforce data.
c. Pay differentials/adjustments | Increased incentive to accept supervisory/team leader positions | Perceived motivational power | Attitude survey.
2. Performance Management
a. Cash awards/bonuses | Reward/motivate performance | Perceived motivational power | Attitude survey.
| To support fair and appropriate distribution of awards | Amount and number of awards by group, demographics | Workforce data.
|  | Perceived fairness of awards | Attitude survey.
|  | Satisfaction with monetary awards | Attitude survey.
b. Performance based pay progression | Increased pay-performance link | Perceived pay-performance link | Attitude survey.
|  | Perceived fairness of ratings | Attitude survey.
| Improved performance feedback | Satisfaction with ratings | Attitude survey.
|  | Employee trust in supervisors | Attitude survey.
|  | Adequacy of performance feedback | Attitude survey.
| Decreased turnover of high performers/Increased turnover of low performers | Turnover by performance rating scores | Workforce data.
| Differential pay progression of high/low performers | Pay progression by performance scores, career path | Workforce data.
| Alignment of organizational and individual performance objectives and results | Linkage of performance objectives to strategic plans/goals | Performance objectives, strategic plans.
| Increased employee involvement in performance planning and assessment | Perceived involvement | Attitude survey/focus groups.
|  | Performance management | Personnel regulations.
c. New appraisal process | Reduced administrative burden | Employee and supervisor perceptions of revised procedures | Attitude survey.
| Improved communication | Perceived fairness of process | Focus groups.
d. Performance development | Better communication of performance expectations | Feedback and coaching procedures used | Focus groups.
|  | Time, funds spent on training by demographics | Personnel office data. Training records.
| Improved satisfaction and quality of workforce | Perceived workforce quality | Attitude survey.
3. “White Collar” Classification
a. Improved classification systems with generic standards | Reduction in amount of time and paperwork spent on classification | Time spent on classification procedures | Personnel office data.
|  | Reduction of paperwork/number of personnel actions (classification/promotion). | Personnel office data.
| Ease of use | Managers' perceptions of time savings, ease of use | Attitude survey.
b. Classification authority delegated to managers | Increased supervisory authority/accountability | Perceived authority | Attitude survey.
| Decreased conflict between management and personnel staff | Number of classification disputes/appeals pre/post | Personnel records.
|  | Management satisfaction with service provided by personnel office | Attitude survey.
| No negative impact on internal pay equity | Internal pay equity | Attitude survey.
c. Dual career ladder | Increased flexibility to assign employees | Assignment flexibility | Focus groups, surveys.
| Improved internal mobility | Perceived internal mobility | Attitude survey.
| Increased pay equity | Perceived pay equity | Attitude survey.
| Flatter organization | Supervisory/non-supervisory ratios | Workforce data.
|  |  | Attitude survey.
| Improved quality of supervisory staff | Employee perceptions of quality or supervisory | Attitude survey.
4. Modified RIF
| Minimize loss of high performing employees with needed skills | Separated employees by demographics, performance scores | Workforce data.
|  |  | Attitude survey/focus group.
| Contain cost and disruption | Satisfaction with RIF Process | Attitude survey/focus group.
|  | Cost comparison of traditional vs. Modified RIF | Personnel office/budget Data.
|  | Time to conduct RIF—personnel office data | Personnel office data.
|  | Number of Appeals/reinstatements | Personnel office data.
5. Hiring Authority
a. Delegated Examining | Improved ease and timeliness of hiring process | Perceived flexibility in authority to hire | Attitude survey.
| Improved recruitment of employees in shortage categories | Offer/accept ratios | Personnel office data.
|  | Percent declinations | Personnel office data.
|  | Timeliness of job offers | Personnel office data.
|  | GPAs of new hires, educational levels | Personnel office data.
| Reduced administrative workload/paperwork reduction | Actual/perceived skills | Attitude survey.
b. Term Appointment Authority | Increased capability to expand and contract workforce | Number/percentage of conversions from modified term to permanent appointments | Workforce data.
|  |  | Personnel office data.
c. Flexible Probationary Period | Expanded employee assessment | Average conversion period to permanent status | Workforce data.
|  |  | Personnel office data.
|  | Number/percentage of employees completing probationary period | Workforce data.
|  |  | Personnel office data.
|  | Number of separations during probationary period | Workforce data.
|  |  | Personnel office data.
d. Distinguish Scholastic Achievement Appointment | Improved ease and timeliness of hiring process | Perceived flexibility in authority to hire | Attitude survey.
| Improved recruitment of employees in shortage categories | Offer/accept ratios | Personnel office data.
|  | Percent declinations | Personnel office data.
|  | Timeliness of job offers | Personnel office data.
|  | GPAs of new hires, educational levels | Personnel office data.
| Reduced administrative workload/paperwork reduction | Actual/perceived skills | Attitude survey.
6. Expanded Development Opportunities
a. Sabbaticals | Expanded range of professional growth and development | Number and type of opportunities taken | Workforce data.
| Application of enhanced knowledge and skills to work product | Employee and supervisor perceptions | Attitude survey.
b. Critical Skills Training | Improved organizational effectiveness | Number and type of training | Personnel office data.
|  | Placement of employees, skills imbalances corrected | Personnel office data.
|  | Employee and supervisor perceptions | Attitude survey.
|  | Application of knowledge gained from training | Attitude survey/focus group.
7. Combination Of All Interventions
All | Improved organizational effectiveness | Combination of personnel measures | All data sources.
| Improved management of workforce | Employee/Management job satisfaction (intrinsic/extrinsic) | Attitude survey.
| Improved planning | Planning procedures | Strategic planning documents.
|  | Perceived effectiveness of planning procedures | Attitude survey.
| Improved cross functional coordination | Actual/perceived coordination | Organizational charts.
| Increased product success | Customer satisfaction | Customer satisfaction surveys.
| Cost of innovation | Project training/development costs (staff salaries, contract cost, training hours per employee) | Demo project office records.
|  |  | Contract documents.
8. Context
Regionalization | Reduced servicing ratios/costs | HR servicing ratios | Personnel office data, workforce data.
|  | Average cost per employee served | Personnel office data, workforce data.
| No negative impact on service quality | Service quality, timeliness | Attitude survey/focus groups.

[FR Doc. 2011-4932 Filed 3-4-11; 8:45 am]

BILLING CODE 5001-06-P